DEPARTMENT OF HOUSING AND URBAN DEVELOPMENT

[Docket No. FR-4997-N-03]

Notice of Regulatory Waiver Requests Granted for the Third Quarter of Calendar Year 2005

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2005, and ending on September 30, 2005.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the third quarter of calendar year 2005.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337) (1991 Policy Statement). This notice covers waivers of regulations granted by HUD from July 1, 2005, through September 30, 2005. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about regulatory waivers granted during the period covered by this report (the third quarter of calendar year 2005) before the next report is published (the fourth quarter of calendar year 2005), HUD will include any additional waivers granted for the third quarter in the next report.

Accordingly, information about approved waiver requests pertaining to HUD regulations is provided in the Appendix that follows this notice.

Dated: February 8, 2006.
Keith E. Gottfried,
General Counsel.

Appendix—Listing of Waivers of Regulatory Requirements Granted by Offices of the Department of Housing and Urban Development July 1, 2005, Through September 30, 2005

Note to Reader: More information about the granting of these waivers, including a copy of the waiver request and approval, may be obtained by contacting the person whose name is listed as the contact person directly after each set of regulatory waivers granted.

The regulatory waivers granted appear in the following order:

I. Regulatory Waivers Granted by the Office of Community Planning and Development.

II. Regulatory Waivers Granted by the Office of Housing.

III. Regulatory Waivers Granted by the Office of Public and Indian Housing.

I. Regulatory Waivers Granted by the Office of Community Planning and Development

For further information about the following regulatory waivers, please see the name of the contact person who immediately follows the description of the waiver granted.

• Regulation: 24 CFR 91.15(a)(2).

Project/Activity: The County of Milwaukee, Wisconsin, requested waiver of 24 CFR 91.15(a)(2) of the consolidated plan submission regulations.

Nature of Requirements: Section 91.15(a)(2) requires a participating jurisdiction to submit its consolidated plan no later than August 16 of the federal fiscal year for which grant funds were appropriated.

Granted by: Pamela H. Patenaude, Assistant Secretary for Community Planning and Development.

Date Granted: July 28, 2005.

Reasons Waived: The County of Milwaukee sought a waiver of 24 CFR 91.15(a)(2) to extend its submission deadline for its FY2004 consolidated action plan until 45 days after it is notified of HUD's approval of its waiver request. The waiver of this provision allows the county to amend its FY2004 consolidated action plan to include its FY2003 and FY2004 American Dream Downpayment Initiative (ADDI) programs, and enables the county to use its FY2003 and FY2004 ADDI program funds to assist first time homebuyers.

Contact: Virginia Sardone, Office of Community Planning and Development, Department of Housing and Urban Development, 451 Seventh Street, SW., Washington, DC 20410-7000, telephone (202) 708-2684.

• Regulation: 24 CFR 92.500(d)(1)(C).

Project/Activity: The Commonwealth of Puerto Rico, through the Puerto Rico Department of Housing (PRDH), requested waiver of 24 CFR 92.500(d)(1)(C) of the HOME regulations.

Nature of Requirement: Section 92.500(d)(1)(C) requires HUD to reduce or recapture any HOME funds in a participating jurisdiction's HOME Investment Trust Fund that are not extended within five years after the last day of the month that HUD notifies the participating jurisdiction of HUD's execution of the HOME Investment Participation Agreement.

Granted by: Pamela H. Patenaude, Assistant Secretary for Community Planning and Development.

Date Granted: August 1, 2005.

Reasons Waived: The Commonwealth has addressed numerous performance and compliance deficiencies, reorganized the administration of its HOME program, and implemented a new financial management system that meets federal standards. With the granting of the waiver, PRDH now has the capacity to successfully implement the HOME program to provide affordable housing for low-income families.

Contact: Ginger Macomber, Office of Community Planning and Development, Department of Housing and Urban Development, 451 Seventh Street, SW., Washington, DC 20410-7000, telephone (202) 708-2684.

• Regulation: 24 CFR 91.15(a)(2).

Project/Activity: City of Yonkers, New York, requested a waiver of 24 CFR 91.15(a)(2) of the Consolidated Plan regulations.

Nature of Requirement: Section 91.15(a)(2) requires a participating jurisdiction to submit its consolidated action plan no later than August 16 of the federal fiscal year for which grant funds were appropriated.

Granted by: Pamela H. Patenaude, Assistant Secretary for Community Planning and Development.

Date Granted: August 1, 2005.

Reasons Waived: The City of Yonkers sought a waiver of 24 CFR 91.15(a)(2) to extend its submission deadline for its FY2004 consolidated action plan until 45 days after it is notified of HUD's approval of its waiver request. The waiver allows the city to amend its FY2004 consolidated action plan to include its FY2003 and FY2004 ADDI programs, and enables the city to use its FY2003 and FY2004 ADDI program funds to assist first time homebuyers.

Contact: Martha Murray, Office of Community Planning and Development, Department of Housing and Urban Development, 451 Seventh Street, SW., Washington, DC 20410-7000, (202) 708-2684.

• Regulation: 24 CFR 92.214(a)(6).

Project/Activity: The City of Houston, Texas, requested a waiver under 24 CFR 92.214(a)(6) of the HOME program regulations.

Nature of Requirement: Section 92.214 of the HOME program regulations states that except for up to one year after project completion, HOME assistance may not be provided to a previously assisted HOME project during the period of affordability.

Granted by: Pamela H. Patenaude, Assistant Secretary for Community Planning and Development.

Date Granted: August 1, 2005.

Reasons Waived: Since HUD issued its monitoring report, the city has taken corrective actions to inspect the single-family housing purchased with HOME downpayment assistance and to correct property standards violations.

Contact: Martha Murray, Office of Community Planning and Development, Department of Housing and Urban Development, 451 Seventh Street, SW., Washington, DC 20410-7000, telephone (202) 708-2684.

• Regulation: 24 CFR 92.503(b).

Project/Activity: Dakota County Consortium, Minnesota, requested waiver of 24 CFR 92.503(b) of the HOME program regulations.

Nature of Requirements: Section 92.503(b) of the HOME program regulations requires that any HOME funds invested in a project that fails to meet the affordability requirements for the period specified in 24 CFR 92.252 be repaid by the participating jurisdiction to its HOME account.

Granted by: Pamela H. Patenaude, Assistant Secretary for Community Planning and Development.

Date Granted: September 20, 2005.

Reasons Waived: In lieu of repayment, the Dakota County Consortium requested a waiver to enable it to substitute a comparable property for a HOME-assisted property. In addition to being comparable, the substitute property must have received no federal aid. The granting of the waiver allowed the consortium to transfer the HOME affordability requirements to the substitute property for the remainder of the affordability period.

Contact: Shawna Burrell, Office of Community Planning and Development, Department of Housing and Urban Development, 451 Seventh Street, SW., Washington, DC 20410-7000, telephone (202) 708-2684.

• Regulation: 24 CFR 570.380(a).

Project/Activity: The City of Carmel, Indiana requested a waiver of the Community Development Block Grant (CDBG) program regulations at 24 CFR 570.308(a).

Granted by: Pamela H. Patenaude, Assistant Secretary for Community Planning and Development.

Date Granted: September 21, 2005.

Reasons Waived: The granting of the waiver permitted consideration by HUD of a joint request from Carmel and Hamilton County to include the City as part of the urban county during FY2006 for the purpose of planning and implementing a joint community development and housing program.

Contact: Gloria Coates, Office of Community Planning and Development, Department of Housing and Urban Development, 451 Seventh Street, SW., Washington, DC 20410-7000, telephone (202) 708-1577.

• Regulation: 24 CFR 574.310(d) and 574.320(a)(1).

Project/Activity: Marin County, California requests a waiver of the HOPWA resident rent payment and maximum subsidy regulations at 24 CFR 574.310(d) and 574.320(a)(1).

Granted by: Nelson Bregon, General Deputy Assistant Secretary for Community Planning and Development.

Date Granted: July 8, 2005.

Reasons Waived: The waiver permits Marin County to increase the resident rent payment from 30 percent to 40 percent of the program recipient's monthly-adjusted income for the purposes of lowering the subsidy amount HOPWA clients receive for rental assistance. This action allows Marin County to continue providing rental housing assistance to its current 50 clients with maximum rental assistance subsidy without terminating rental assistance for up to 18 clients.

Contact: David Vos, Office of Community Planning and Development, Department of Housing and Urban Development, 451 7th Street, SW., Washington, DC 20410-7000, telephone (202) 708-1934.

II. Regulatory Waivers Granted by the Office of Housing—Federal Housing Administration (FHA)

For further information about the following regulatory waivers, please see the name of the contact person that immediately follows the description of the waiver granted.

• Regulation: 24 CFR 200.40(d)(1).

Project/Activity: The following projects requested waivers to the application fee at 24 CFR 200.40(d)(1).

FHA No. | Project | State
03135237 | Arlington Arms Apartments | NJ
10235180 | Brookridge Plaza Apartments | KS
01335126 | Elizabeth Square Apartments | NY
06135383 | Moultrie Manor Apartments | GA
12335118 | Mountain View Apartments | AZ
02336613 | Lena Park (Granite Package #7) | MA
11744034 | Rolling Meadows of Enid | OK
05135350 | Garrison Woods | VA
06435006 | Sunlight Manor Apartments | LA
09435014 | Dakota Estates Retirement Center | ND
05335440 | Arcadia Village Apartments | NC
07335416 | Gary NSA III Apartments | IN
07135469 | Englewood Eden Green | IL
07335255 | The Oaks Apartments III | IN
03444055 | Interfaith Heights | PA
06444112 | Gulfway Terrace Apartments | LA
11535159 | Donna Village Apartments | TX
05435494 | Standpoint Vista Apartments | SC
01257308 | Villa Alejandrina | NY
07335596 | Cambridge Estates Phase IV | IN
07335299 | Gardens of Greenbriar Apartments | IN
07335371 | Beacon Heights | IN
01735090 | Hill Central Community Cooperative | CT
01257346 | Mother Zion Apartments | NY
08635179 | Margaret Robertson Apartments | TN
11335067 | Gholson Hotel | TX
01232258 | Maplewood Apartments | NY
11235330 | Cove Village Apartments | TX
05335319 | Alamance Plaza | NC
07135568 | Austin Renaissance | IL
04744016 | Pinebrook Manor | MI
03444017 | Garden Court Apartments | PA
05635077 | Manati Plaza Apartments | PR
06135382 | Capitol Towers | GA
05335406 | Rochelle Manor Apartments | NC
12735359 | Broadway Plaza Apartments | WA
05635110 | San Cristobal Apartments | PR
11435322 | Colonial Park Apartments | TX
03535082 | Park Plaza Apartments | NJ
07135441 | Madison Terrace Apartments | IL
10911006 | Del Mar Apartments | WY
07135483 | Washington Scene Apartments | IL
10935045 | Cheyenne North Apartments | WY
08435253 | Kings Cove Apartments | MO
06235209 | Cedars Green Apartments | AL
07135436 | Roosevelt Independence | IL
04635170 | Hi-Land Terrace Apartments | OH
10135274 | California Park East | CO
06535351 | Canton Estates Apartments | MS
06235283 | Normandale Apartments | AL
03335151 | Evergreen Arbors | PA
04235405 | West Park Senior Center | OH
05935181 | Bond House | LA
05938005 | Wellington Square | LA
12735360 | New Central Hotel | WA
01435059 | Roosevelt Apartments | NY
02335268 | Piedmont Brightside Apartments | MA
05235367 | Windsor Gardens | MD
06694016 | Federal Apartments | FL
10935062 | Springhill I Apartments | WY
10935063 | Springhill II Apartments | WY
10935064 | Springhill III Apartments | WY
04335287 | Melanie Manor | OH
11344071 | Western Heights Apartments | TX
08535391 | College Hill Apartments | MO
02336612 | Washington Columbia Apartments | MA
04235402 | Brookside Village | OH
08335176 | Cambridge Square Apartments | KY
05635123 | Villa Machuelo | PR
06535362 | George E. Lewis Estates | MS
05635131 | Brisas De San Alfonso | PR
05635113 | Trujillo Alto Gardens | PR
07335585 | Mill Run Apartments | IN
04335162 | The Orchards II | OH
05235362 | Upton Druid Apartments | MD
04335182 | The Orchards I | OH
03135235 | Broadway Manor Apartments | NJ
07335600 | Cloverdale Heights Apartments II | IN
12735346 | Jackson Apartments | WA
08535251 | Union Sarah Rehab SS II | MO
07535313 | Renaissance Apartments | WI
03435210 | Daniel Scott Commons | PA
00035334 | Benning Heights | DC
06544042 | Northwood Village | MS
12135678 | Mercy Terrace | CA
01435002 | Metro Interfaith | NY
01335120 | Schuyler Court Apartments | NY
10935006 | Sertoma Senior Citizens Housing, Inc. | WY
01257338 | Brownsville Gardens | NY
01332004 | Providence Hall | NY
08735141 | Ivy Avenue Apartments | TN
05935039 | Cooper Road Plaza Apartments | LA
07335624 | Fairington of Fort Wayne | IN
07335531 | River Run Apartments | IN
06144148 | Shy Manor Apartments | GA
06535040 | Eastgate Garden Apartments | MS
06144197 | Blakewood Apartments | GA
05235350 | Barclay Greenmount | MD
06135312 | Oakwood Apartments | GA
04735006 | Neighborhood Apartments | MI
03135244 | Hampshire House | NJ
10110557 | Birchwood Manor | CO
08335012 | Highland Heights Apartments | KY
08344081 | Belmont Court Apartments | KY
06144040 | Holsey Cobb Village Apartments | GA
08335033 | Woodland Heights | KY
04535004 | Abram-King Memorial Apartments | WV
03344088 | Grant Towers | PA
06544802 | Madonna Manor | MS
05235312 | Cumberland Manor | MD
07355120 | Eden Green Apartments | IN
08344024 | Edgewood Village Apartments | KY
12735200 | Lake Chelan Community Apartments | WA
12135758 | La Serena Apartments | CA
07335591 | Jamestown Square of Washington | IN
07344403 | Fowler Apartments | IN
07335605 | Cambridge Square of Bedford | IN
04335289 | Beasley Mills Apartments | OH
04535159 | West View Manor | WV
04235403 | Highland Crest Apartments | OH
06244012 | Alta Vista Apartments | AL
07344166 | Troy Manor Cooperative II | IN
07344167 | Troy Manor Cooperative III | IN
06535091 | Southwest Village Apartments | MS
04344061 | Rosa Parks Apartments | OH
09135016 | Townhouse Apartments | SD
04292505 | Marshall Plaza II | OH
09135026 | Fairlane Apartments | SD
08635189 | Southfield Apartments | TN
12135737 | Flores Gardens Apartments | CA
07335229 | Cambridge Square of Marion | IN
07435229 | Oak Hill Manor | IA
00035427 | Cavalier Apartments | DC
07335459 | Gary NSA V | IN
12344027 | Broadway House | AZ
06435246 | Stonehenge Apartments | LA
05392503 | Park Heights Apartments | NC
01257216 | Malcolm X 11-Phase A Apartments | NY
09338006 | Glacier Manor | MT
06144105 | Cedar Avenue Apartments | GA
07344175 | Vinton Woods Cooperative III | IN
04535154 | Manor House Apartments | WV
11535198 | Fifty Oaks Apartments | TX
06592501 | William H. Bell Apartments | MS
11535163 | Alamo Village Apartments | TX
11535338 | Fox Run Apartments | TX
06411067 | Pine Hill Estates | LA
11535245 | Castle Manor Apartments | TX
05935196 | Stone Vista Apartments | LA
11744094 | Town and Country Apartments | OK
12144371 | Villa Fontana Apartments | CA
04535074 | Freedom Place I | WV
02336614 | Field Corner Granite | MA
07335286 | Camelot Court of Paoli | IN
02335279 | Ashland Commons | MA
01332005 | Amsterdam Sr. Citizen Housing | NY
06535012 | Susie B. West Apartments | MS
06535082 | Edgewood Manor Apartments | MS
03435212 | Monte Vista Apartments | PA
06135031 | Eastgate Apartments | GA
01257322 | Woodycrest Courts II | NY
01235541 | New Square Family Housing | NY
04544014 | Vandalia Terrace Apartments | WV
01257017 | Friendset Apartments | NY
07135254 | Ridgewood Towers Apartments | IL
07392002 | South Towne Square Apartments | IN
07435003 | Oakridge Neighborhood (DMACC) | IA
04535069 | Dunbar Towers | WV
04535018 | Calhoun Homes | WV
02336616 | Quincy Geneva—Granite #11B | MA
12344044 | Hartford Apartments | AZ
06544052 | Broadway Estates | MS
08635013 | East Gate Apartments | TN
05392508 | Spring Valley Apartments | NC
10335020 | Valentine Apartments | NE
07344071 | Garden Estates West | IN
01335128 | Fulton Mill Apartments | NY
11535162 | Rio Hondo Village | TX
10235105 | Concordia II Apartments | KS
10244092 | Concordia Apartments | KS
01444056 | Corning Mews Apartments | NY
01444043 | Apple Blossom Acres | NY
06111135 | Wisdom Woods Apartments | GA
06535005 | Francis Street Apartments | MS
08635149 | Algood Manor Apartments | TN
11344016 | Woodland Village Apartments | TX
04535007 | Miracle Acres | WV
07344119 | Gardenside Terrace Cooperative II | IN
07344118 | Gardenside Terrace Cooperative I | IN
06135536 | Amberwood Apartments | GA
07135426 | Concord Commons Apartments | IL
06235323 | Claiborne Arms Apartments | AL
09344055 | Thompson Falls Lions Manor | MT
05335009 | Zion Hills Apartments | NC
06744125 | Palm Avenue Baptist Apartments | FL
09335035 | Sunset Capital Apartments | MT
08144038 | Tyson Park Apartments | TN
04644005 | Asbury Apartments | OH
08611043 | Buena Vista Manor Apartments | TN
05294031 | York Park Apartments | MD
01257288 | McKinley Manor Apartments | NY
08635015 | Haynes Garden Apartments | TN
04335098 | Garden Manor Apartments | OH
01435035 | Touraine Apartments | NY
07335018 | Greenwood Apartments | IN
05335047 | Stewart's Creek Apartments | NC
09335092 | Crestwood Inn | MT
04244054 | Channelwood Village (aka Callis Tower) | OH
08635062 | Spring Haven Apartments | TN
08344019 | Heather Hills II Apts (aka Danville II) | KY
08335344 | Countryview Apartments | KY
10235111 | Greenway Park Apartments | KS
04535078 | Montani Towers | WV
08335222 | Holley Manor Annex Apartments | KY
04635046 | Parkview Arms I | OH
11435007 | Louis Manor Apartments | TX
11735033 | Columbia Square Apartments | OK
04244043 | Moody Manor | OH
04255046 | Marshall Plaza I | OH
01257324 | McGee Hill Apartments | NY
06592002 | South Park Village Apartments | MS
03135246 | Spruce Park Apartments | NJ
11835117 | James B. Milam Apartments | OK
11244063 | Liberty Arms Apartments | TX
11844044 | Coweta Apartments | OK
08644021 | Knollcrest Manor Apartments | TN
04238002 | Firelands Retirement Center | OH
06535066 | Delta Apartments | MS
08535294 | Kirksville Heights Apartments | MO
09144048 | Village Green | SD
04635265 | Carl Apartments | OH
04235029 | Regina Manor | OH
04244020 | Pentecostal Apartments | OH
13335002 | Northcrest Apartments | TX
01232230 | Armory Plaza | NY
08211012 | The Pines Apartments | AR
05335046 | Elizabeth Manor Apartments | NC
08638005 | Madison View Towers | TN
12235580 | Strathern Court | CA
05935038 | Lakeside Garden Apartments | LA
12135750 | Rumrill Gardens | CA
03232002 | Quaker Hill Place | DE
08144035 | Creekwood Village Apartments | TN
08335030 | Parkway Villa Apartments | KY
10535071 | Milford Haven Apartments | UT
07335226 | Hammond Elderly Apartments | IN
11844075 | Beard Estates | OK
07335557 | Twyckenham Apartments | IN
10235131 | Clinton Parkway | KS
11335075 | Peppertree Acres | TX
04535089 | Pleasantview Towers | WV
08435204 | Catalpa Tree Apartments | MO
06135215 | Ashley House Apartments | GA
08655001 | CWA I Apartments | TN
09235331 | Maplewood Gardens | MN
04635566 | Wilmington Green III | OH
04635585 | St. Francis Court Apartments | OH
03135173 | Aspen Temple | NJ
04335262 | Jeffersonville Green II | OH
09235252 | Raintree West Apartments | MN
10535035 | Stonehedge I | UT
06435341 | Winnsboro Homes | LA
07344088 | Grandville Cooperative III | IN
04235013 | Kenmore Village I | OH
07344059 | Grandville Cooperative I | IN
07344087 | Grandville Cooperative II | IN
01257312 | James Alston (SEBCO Banana Kelly) | NY
11544138 | Villa San Benito Apartments | TX
04635666 | La Luz Apartments | OH
05435343 | Manning Gardens | SC
08511059 | Mexico Housing for the Elderly | MO
04744066 | Oak Tree Village | MI
17155001 | Tri-Cities Low Cost Housing | WA
12235488 | East 35th Street Apartments | CA
03135162 | Aspen Stratford A | NJ
08535460 | Cape Gardens Apartments | MO
04744090 | Briar Hills Apartments | MI
09332003 | Serendipity | MT
05335016 | Park View Terrace | NC
01257246 | Union Avenue Apartments | NY
08635166 | Greentree Apartments | TN
06444093 | Haydel Heights Apartments | LA
05435399 | Laurens Villa Apartments | SC
08535234 | HDC Retirement Village | MO
08335633 | Meadowbrook Apartments | KY
10144803 | NEDCO for the Elderly dba Liggins Tower | CO
04635474 | The Terraces Apartments | OH
05335248 | Sir Walter Apartments | NC
04535102 | Market Manor | WV
12138108 | Wesley Manor | CA
01335127 | Park Drive Manor II | NY
08335631 | Sycamore Terrace | KY
08335621 | Richmond Manor Apartments | KY
04635482 | Camden Way I | OH
11435047 | Eastwood Terrace | TX
05435514 | Heritage Court | SC
05938007 | Cedar Hill Apartments | LA
05311135 | Arrowhead Apartments | NC
11335239 | Blue Water Garden Apartments | TX
11644025 | Sunset 1600 Apartments | NM
05335739 | Clinton Housing for the Elderly | NC
11235117 | Roxton Arms Apartments | TX
12135785 | Terman Apartments | CA
04635017 | Shelton Gardens | OH
07335284 | Camelot Court of French Lick | IN
05335428 | Greentree Village Apartments | NC
05655046 | Water Guts Homes | VI
06135230 | Jefferson Apartments | GA
05655029 | Lagoon Street Homes | VI
06135250 | Sandy Springs Apartments | GA
04244135 | Community Circle I | OH
17144902 | Orchard Villa Apartments | ID
03535086 | New Sharon Woods | NJ
13635613 | Marymead Park Apartments | CA
08535274 | Wellston Townhouses | MO
01735232 | Fairhaven Elderly Apartments | CT
05155005 | Fairhills Apartments | VA
01257247 | Washington Plaza | NY
01257193 | Felisa Rincon De Gautier | NY
07235043 | Sunnycrest Manor | IL
06435045 | Bacmonila Garden Apartments | LA
00035313 | Ivy City Apartments | DC
05435339 | Fleetwood Manor | SC
04635486 | Village Park | OH
07311275 | Briarwood Village | IN
07335588 | Austin Village Apartments | IN
07435131 | Autumn Park Apartments | IA
10335069 | Empire Apartments | NE
04535072 | Parkland Place | WV
11535108 | Robinhood Apartments | TX
04344088 | Maplewood Apartments | OH
01435064 | Springside Meadows | NY
04335148 | Northwood Apartments | OH
04335268 | Pleasant View, Ltd. | OH
08335243 | Madison Avenue Apartments | KY
08435188 | Cameron Estates | MO
04544038 | North Park Apartments | WV
08444129 | Sherri Estates | MO
12135638 | Rancho Sol | CA
12135639 | Rancho Luna | CA
08144018 | Corning Village Apartments | TN
03135248 | Highview Terrace | NJ
04535116 | Ravenswood Station | WV
06694031 | Driftwood Terrace Apartments | FL
04535115 | Senior Towers | WV
10135245 | Allison Village | CO
12135641 | Hayward Villa | CA
12135647 | Fairway Apartments | CA
07311199 | 100 Center Hi-Rise Apartments | IN
01257286 | Battle Hill Houses | NY
07135499 | Clifton Apartments | IL
04235432 | South Toledo Homes | OH
05635053 | Muneki I | PR
08344098 | Valley View Apartments | KY
01438002 | Linwood Congregate | NY
05635054 | Joanne Gardens (aka Jardines De Joanne) | PR
05135393 | Shockoe Hill Apartments II | VA
09135068 | Valley Hi Apartments | SD
01335074 | Auburn Heights Apartments | NY
10335070 | Regency Place | NE
03335094 | Towne Towers | PA
04235423 | Palmer Gardens | OH
08535237 | New Madrid Villa | MO
08535240 | Malden Villa Apartments | MO
04235283 | Indian Village Apartments | OH
08535238 | Lilbourn Villa | MO
01257319 | Fulton Street South | NY
01235352 | Woodland Townhouses | NY
01211266 | 2059 Madison Avenue | NY

Nature of Requirement: Section 200.40 establishes fees to be applied to Mark-to-Market transactions with FHA insured mortgages. The intent of this provision is to provide an extra incentive to encourage owner cooperation with the process in a timely manner.

Granted by: Brian D. Montgomery, Assistant Secretary for Housing—Federal Housing Commissioner.

Date Granted: August 2, 2005.

Reason Waived: The projects listed above were FHA insured and incentives were necessary to encourage cooperation.

Contact: Norman Dailey, Office of Affordable Housing Preservation, Department of Housing and Urban Development, 451 Seventh Street, SW., Washington, DC 20410-8000; telephone (202) 708-0614, ext. 8371.

• Regulation: 24 CFR 200.40(h).

Project/Activity: The following projects requested waivers to the application fee CFR at 200.40(h).

FHA No. | Project | State
01257324 | McGee Hill Apartments | NY
06592002 | South Park Village Apartments | MS
03135246 | Spruce Park Apartments | NJ
11835117 | James B. Milam Apartments | OK
11244063 | Liberty Arms Apartments | TX
11844044 | Coweta Apartments | OK
08644021 | Knollcrest Manor Apartments | TN
04238002 | Firelands Retirement Center | OH
06535066 | Delta Apartments | MS
08535294 | Kirksville Heights Apartments | MO
09144048 | Village Green | SD
04635265 | Carl Apartments | OH
04235029 | Regina Manor | OH
04244020 | Pentecostal Apartments | OH
13335002 | Northcrest Apartments | TX
01232230 | Armory Plaza | NY
08211012 | The Pines Apartments | AR
05335046 | Elizabeth Manor Apartments | NC
08638005 | Madison View Towers | TN
12235580 | Strathern Court | CA
05935038 | Lakeside Garden Apartments | LA
12135750 | Rumrill Gardens | CA
03232002 | Quaker Hill Place | DE
08144035 | Creekwood Village Apartments | TN
08335030 | Parkway Villa Apartments | KY
10535071 | Milford Haven Apartments | UT
07335226 | Hammond Elderly Apartments | IN
11844075 | Beard Estates | OK
07335557 | Twyckenham Apartments | IN
10235131 | Clinton Parkway | KS
11335075 | Peppertree Acres | TX
04535089 | Pleasantview Towers | WV
08435204 | Catalpa Tree Apartments | MO
06135215 | Ashley House Apartments | GA
08655001 | CWA I Apartments | TN
09235331 | Maplewood Gardens | MN
04635566 | Wilmington Green III | OH
04635585 | St. Francis Court Apartments | OH
03135173 | Aspen Temple | NJ
04335262 | Jeffersonville Green II | OH
09235252 | Raintree West Apartments | MN
10535035 | Stonehedge I | UT
06435341 | Winnsboro Homes | LA
07344088 | Grandville Cooperative III | IN
04235013 | Kenmore Village I | OH
07344059 | Grandville Cooperative I | IN
07344087 | Grandville Cooperative II | IN
01257312 | James Alston (SEBCO Banana Kelly) | NY
11544138 | Villa San Benito Apartments | TX
04635666 | La Luz Apartments | OH
05435343 | Manning Gardens | SC
08511059 | Mexico Housing for the Elderly | MO
04744066 | Oak Tree Village | MI
17155001 | Tri-Cities Low Cost Housing | WA
12235488 | East 35th Street Apartments | CA
03135162 | Aspen Stratford A | NJ
08535460 | Cape Gardens Apartments | MO
04744090 | Briar Hills Apartments | MI
09332003 | Serendipity | MT
05335016 | Park View Terrace | NC
01257246 | Union Avenue Apartments | NY
08635166 | Greentree Apartments | TN
06444093 | Haydel Heights Apartments | LA
05435399 | Laurens Villa Apartments | SC
08535234 | HDC Retirement Village | MO
08335633 | Meadowbrook Apartments | KY
10144803 | NEDCO for the Elderly dba Liggins Tower | CO
04635474 | The Terraces Apartments | OH
05335248 | Sir Walter Apartments | NC
04535102 | Market Manor | WV
12138108 | Wesley Manor | CA
01335127 | Park Drive Manor II | NY
08335631 | Sycamore Terrace | KY
08335621 | Richmond Manor Apartments | KY
04635482 | Camden Way I | OH
11435047 | Eastwood Terrace | TX
05435514 | Heritage Court | SC
05938007 | Cedar Hill Apartments | LA
05311135 | Arrowhead Apartments | NC
11335239 | Blue Water Garden Apartments | TX
11644025 | Sunset 160 Apartments | NM
05335739 | Clinton Housing for the Elderly | NC
11235117 | Roxton Arms Apartments | TX
12135785 | Terman Apartments | CA
04635017 | Shelton Gardens | OH
07335284 | Camelot Court of French Lick | IN
05335428 | Greentree Village Apartments | NC
05655046 | Water Guts Homes | VI
06135230 | Jefferson Apartments | GA
05655029 | Lagoon Street Homes | VI
06135250 | Sandy Springs Apartments | GA
04244135 | Community Circle I | OH
17144902 | Orchard Villa Apartments | ID
03535086 | New Sharon Woods | NJ
13635613 | Marymead Park Apartments | CA
08535274 | Wellston Townhouses | MO
01735232 | Fairhaven Elderly Apartments | CT
05155005 | Fairhills Apartments | VA
01257247 | Washington Plaza | NY
01257193 | Felisa Rincon De Gautier | NY
07235043 | Sunnycrest Manor | IL
06435045 | Bacmonila Garden Apartments | LA
00035313 | Ivy City Apartments | DC
05435339 | Fleetwood Manor | SC
04635486 | Village Park | OH
07311275 | Briarwood Village | IN
07335588 | Austin Village Apartments | IN
07435131 | Autumn Park Apartments | IA
10335069 | Empire Apartments | NE
04535072 | Parkland Place | WV
11535108 | Robinhood Apartments | TX
04344088 | Maplewood Apartments | OH
01435064 | Springside Meadows | NY
04335148 | Northwood Apartments | OH
04335268 | Pleasant View, Ltd. | OH
08335243 | Madison Avenue Apartments | KY
08435188 | Cameron Estates | MO
04544038 | North Park Apartments | WV
08444129 | Sherri Estates | MO
12135638 | Rancho Sol | CA
12135639 | Rancho Luna | CA
08144018 | Corning Village Apartments | TN
03135248 | Highview Terrace | NJ
04535116 | Ravenswood Station | WV
06694031 | Driftwood Terrace Apartments | FL
04535115 | Senior Towers | WV
10135245 | Allison Village | CO
12135641 | Hayward Villa | CA
12135647 | Fairway Apartments | CA
07311199 | 100 Center Hi-Rise Apartments | IN
01257286 | Battle Hill Houses | NY
07135499 | Clifton Apartments | IL
04235432 | South Toledo Homes | OH
05635053 | Muneki I | PR
08344098 | Valley View Apartments | KY
01438002 | Linwood Congregate | NY
05635054 | Joanne Gardens (aka Jardines De Joanne) | PR
05135393 | Shockoe Hill Apartments II | VA
09135068 | Valley Hi Apartments | SD
01335074 | Auburn Heights Apartments | NY
10335070 | Regency Place | NE
03335094 | Towne Towers | PA
04235423 | Palmer Gardens | OH
08535237 | New Madrid Villa | MO
08535240 | Malden Villa Apartments | MO
04235283 | Indian Village Apartments | OH
08535238 | Lilbourn Villa | MO
01257319 | Fulton Street South | NY
01235352 | Woodland Townhouses | NY
01211266 | 2059 Madison Avenue | NY

Nature of Requirement: Section 200.40 establishes fees to be applied to Mark-to-Market transactions with FHA insured mortgages. The intent of this provision is to provide an extra incentive to encourage owner cooperation with the process in a timely manner.

Granted by: Brian D. Montgomery, Assistant Secretary for Housing—Federal Housing Commissioner.

Date Granted: August 2, 2005.

Reason Waived: The projects listed above were FHA insured and incentives were necessary to encourage cooperation.

Contact: Norman Dailey, Office of Affordable Housing Preservation, Department of Housing and Urban Development, 451 Seventh Street, SW., Washington, DC 20410-8000; telephone (202) 708-0614, ext. 8371.

• Regulation: 24 CFR 203.371(b)(3), 203.414, 203.402(g)(2).

Project/Activity: Assist victims of Hurricane Katrina impacted by above provisions.

Nature of Requirement: These sections that address partial claims were waived to assist in dealing with Hurrican Disaster Relief.

Granted by: Brian D. Montgomery, Assistant Secretary for Housing—Federal Housing Commissioner.

Date Granted: September 22, 2005.

Reason Waived: To assist in dealing with Hurricane Disaster Relief.

Contact: Ray D. Washington, Office of Single Family Housing Asset Management, Department of Housing and Urban Development, 451 Seventh Street, SW., Washington, DC 20410-8000; telephone (202) 708-0614, ext. 2378.

• Regulation: 24 CFR 203.37(a).

Project/Activity: Presidential declared disaster areas caused by Hurricane Katrina.

Nature of Requirement: HUD regulations at 24 CFR 203.37a(b)(2) provides that properties that have a resale date 90 days or less following the date of acquisition by the seller are not eligible for an FHA insured mortgage.

Granted by: Brian D. Montgomery, Assistant Secretary for Housing—Federal Housing Commissioner.

Date Granted: September 28, 2005.

Reason Waived: It is recognized that safe and adequate housing is a major factor in the restoration and stabilization of communities following a natural disaster. Investors and developers can play a major role in the recovery of housing stock in the hurricane ravaged areas. The urgent need to increase housing stock outweighs the property flipping issues in this case.

Contact: Margaret E. Burns, Director, Single Family Program Development, Department of Housing and Urban Development, 451 Seventh Street, SW., Washington, DC 20410-8000; telephone (202) 708-0614, ext. 3989.

• Regulation: 24 CFR 219.220(b).

Project/Activity: Wellesley Townhouses Cooperative, Romulus, Michigan, Project numbers 044-55058, 044-55059, 044-55060, 044-55061; and 044-55062.

Nature of Requirement: Section 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or sale of the project.” These actions would typically terminate FHA involvement with the property, and the Flexible Subsidy loan would be repaid, in whole, at that time.

Granted by: Brian D. Montgomery, Assistant Secretary for Housing—Federal Housing Commissioner.

Date Granted: September 28, 2005.

Reason Waived: The Assistant Secretary for Housing granted waiver of this request. Wellesley Townhouses Cooperative has requested prepayment approval of the insured mortgage to refinance with a non-insured lender. Refinancing will provide sufficient funds for the Cooperative's capital improvement and repair program and allow the property to continue as a well-maintained source of affordable housing. The property will mature on December 1, 2011. The owner proposes to extend the property's current affordable use restriction for an additional 30 years, through December 1, 2041. Ninety-five percent of the residents have incomes below the market interest rate income level. If this waiver were not granted, those residents not receiving Section 8 assistance could be adversely affected by an increase in their rent to cover the cost of immediate repayment of the Flexible Subsidy loan in full.

Contact: Beverly J. Miller, Director, Office of Asset Management, Department of Housing and Urban Development, 451 Seventh Street, SW., Washington, DC 20410-7000, telephone (202) 708-3730, ext. 2598.

• Regulation: 24 CFR 234.1(a).

Project/Activity: Kokanee Creek Condominiums (formerly known as Airport Road Townhomes), Everett, WA.

Nature of Requirement: HUD's regulations at 24 CFR 234.1(a) excludes manufactured homes from being insured as individual units under section 234 of the National Housing Act.

Granted by: Brian D. Montgomery, Assistant Secretary for Housing—Federal Housing Commissioner.

Date Granted: September 27, 2005.

Reason Waived: The homes had received extensive engineering analyses including HUD approval of an alternate construction request to build townhouse type construction. The project was strongly supported by the local housing authority by providing land and other financial resources.

Contact: Margaret E. Burns, Director, Single Family Program Development, Department of Housing and Urban Development, 451 Seventh Street, SW., Washington, DC 20410-8000; telephone (202) 708-0614, ext. 3989.

• Regulation: 24 CFR 401.461(b)(1).

Project/Activity: The following project requested a waiver to the simple interest requirement on the second mortgage to allow compound interest at the applicable Federal Rate. (24 CFR 401.461):

FHA No. | Project | State
034-35185 | Cobbs Creek NSA | PA

Nature of Requirement: Section 401.461 requires that the second mortgages have an interest rate not more than the applicable federal rate. Section 401.461(b)(1) states that interest will accrue but not compound. The intent of simple interest instead of compound interest is to limit the size of the second mortgage accruals to increase the likelihood of long-term financial and physical integrity.

Granted by: Brian D. Montgomery, Assistant Secretary for Housing—Federal Housing Commissioner.

Date Granted: July 13, 2005.

Reason Waived: This regulatory restriction would be construed as a form of federal subsidy, thereby creating a loss of tax credit equity. This loss will adversely affect the ability to close the Restructuring Plan and could cause the loss or deterioration of these affordable housing projects. Therefore, compound interest is necessary for the owner to obtain Low Income Housing Tax Credits under favorable terms and in order to maximize the savings to the Federal Government.

Contact: Dennis Manning, Office of Affordable Housing Preservation, Department of Housing and Urban Development, 451 Seventh Street, SW., Washington, DC 20410-8000; telephone (202) 708-0614, ext. 8381.

• Regulation: 24 CFR 401.461(b)(1).

Project/Activity: The following project requested a waiver to the simple interest requirement on the second mortgage to allow compound interest at the applicable Federal Rate. (24 CFR 401.461):

FHA No. | Project | State
034-35213 | Breslyn Apartments | PA

Nature of Requirement: Section 401.461 requires that the second mortgages have an interest rate not more than the applicable Federal Rate. Section 401.461(b)(1) states that interest will accrue but not compound. The intent of simple interest instead of compound interest is to limit the size of the second mortgage accruals to increase the likelihood of long-term financial and physical integrity.

Granted by: Brian D. Montgomery, Assistant Secretary for Housing—Federal Housing Commissioner.

Date Granted: August 26, 2005.

Reason Waived: This regulatory restriction would be construed as a form of federal subsidy, thereby creating a loss of tax credit equity. This loss will adversely affect the ability to close the Restructuring Plan and could cause the loss or deterioration of these affordable housing projects. Therefore, compound interest is necessary for the owner to obtain Low Income Housing Tax Credits under favorable terms and in order to maximize the savings to the Federal Government.

Contact: Dennis Manning, Office of Affordable Housing Preservation, Department of Housing and Urban Development, 451 Seventh Street, SW., Washington, DC 20410-8000; telephone (202) 708-0614, ext. 8381.

• Regulation: 24 CFR 401.461(b)(1).

Project/Activity: The following project requested a waiver to the simple interest requirement on the second mortgage to allow compound interest at the applicable Federal Rate. (24 CFR 401.461):

FHA No. | Project | State
105-35063 | St. Benedict Manor I Apartments | UT

Nature of Requirement: Section 401.461 requires that the second mortgages have an interest rate not more than the applicable Federal Rate. Section 401.461(b)(1) states that interest will accrue but not compound. The intent of simple interest instead of compound interest is to limit the size of the second mortgage accruals to increase the likelihood of long-term financial and physical integrity.

Granted by: Brian D. Montgomery, Assistant Secretary for Housing—Federal Housing Commissioner.

Date Granted: September 20, 2005.

Reason Waived: This regulatory restriction would be construed as a form of federal subsidy, thereby creating a loss of tax credit equity. This loss will adversely affect the ability to close the Restructuring Plan and could cause the loss or deterioration of these affordable housing projects. Therefore, compound interest is necessary for the owner to obtain Low Income Housing Tax Credits under favorable terms and in order to maximize the savings to the Federal Government.

Contact: Dennis Manning, Office of Affordable Housing Preservation, Department of Housing and Urban Development, 451 Seventh Street, SW., Washington, DC 20410-8000; telephone (202) 708-0614, ext.8381.

• Regulation: 24 CFR 401.600.

Project/Activity: The following projects requested waivers to the 12-month limit at above-market rents (24 CFR 401.600):

FHA No. | Project | State
01635078 | BARBARA JORDAN APTS II | RI
07335018 | Greenwood Apartments | IN
11535160 | San Juan Village | TX
06235026 | Joel Court Apartments | AL
11844075 | Beard Estates | OK
11744094 | Town and Country Apartments | OK
03344088 | Grant Towers | PA
03135246 | Spruce Park Apartments | NJ
04544014 | Vandalia Terrace Apartments | WV
03435212 | Monte Vista Apartments | PA
01635078 | BARBARA JORDAN APTS II | RI
07335018 | Greenwood Apartments | IN

Nature of Requirement: Section 401.600 requires that projects be marked down to market rents within 12 months of their first expiration date after January 1, 1998. The intent of this provision is to ensure timely processing of requests for restructuring and that the properties will not default on their FHA insured mortgages during the restructuring process.

Granted by: Brian D. Montgomery, Assistant Secretary for Housing—Federal Housing Commissioner.

Date Granted: July 14, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000; telephone (202) 708-0614, ext. 8371.

• Regulation: 24 CFR 401.600.

Project/Activity: The following projects requested waivers to the 12-month limit at above-market rents (24 CFR 401.600):

FHA No. | Project | State
07344403 | FOWLER APARTMENTS | IN
07335459 | GARY NSA V | IN
06444112 | GULFWAY TERRACE APTS | LA
01257312 | James Alston Houses | NY
11835117 | JAMES B MILAM | OK
04235013 | KENMORE VILLAGE | OH
05655029 | LAGOON STREET HOMES | VI
10144803 | LIGGINS TOWER | CO
04335297 | ORCHARD TERRACE II | OH
05335016 | PARK VIEW TERRACE | NC
11335075 | PEPPERTREE ACRES | TX
02336616 | QUINCY GENEVA, GRANITE #11B | MA
04635017 | Shelton Gardens | OH
06592002 | SOUTH PARK VILLAGE | MS
01435035 | TOURAINE APARTMENTS | NY
11544138 | Villa San Benito | TX
08335033 | WOODLAND HEIGHTS | KY
11344016 | WOODLAND VILLAGE APTS | TX

Nature of Requirement: Section 401.600 requires that projects be marked down to market rents within 12 months of their first expiration date after January 1, 1998. The intent of this provision is to ensure timely processing of requests for restructuring and that the properties will not default on their FHA insured mortgages during the restructuring process.

Granted by: Brian D. Montgomery, Assistant Secretary for Housing—Federal Housing Commissioner.

Date Granted: September 2, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000; telephone (202) 708-0614, ext.

8371.

• Regulation: 24 CFR 401.600.

Project/Activity: The following projects requested waivers to the 12-month limit at above-market rents (24 CFR 401.600):

FHA No. | Project | State
11335239 | Blue Water Garden Apartments | TX
08144035 | Creekwood Village Apartments | TN
01335114 | Georgian Arms Apartments | NY
06444112 | Gulfway Terrace Apartments | LA
05444005 | Mt. Zion AME II | SC
04335148 | Northwood Apartments | OH
06544042 | Northwood Village | MS
04635585 | ST. FRANCIS COURT | OH
06435341 | Winnsboro Homes | LA

Nature of Requirement: Section 401.600 requires that projects be marked down to market rents within 12 months of their first expiration date after January 1, 1998. The intent of this provision is to ensure timely processing of requests for restructuring and that the properties will not default on their FHA insured mortgages during the restructuring process.

Granted by: Brian D. Montgomery, Assistant Secretary for Housing—Federal Housing Commissioner.

Date Granted: September 30, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000; telephone (202) 708-0614, ext. 8371.

• Regulation: 24 CFR 891.100(d).

Project/Activity: Gulfport Manor, Gulfport, MS, Project Number: 065-EE031/MS26-S001-002.

Nature of Requirement: Section 891.100(d) prohibits amendment of the amount of the approved capital advance funds prior to initial closing.

Granted by: Brian D. Montgomery, Assistant Secretary for Housing—Federal Housing Commissioner.

Date Granted: July 25, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Alison House, Lansing, MI, Project Number: 047-HD029/MI33-Q021-001.

Nature of Requirement: Section 891.100(d) prohibits amendment of the amount of the approved capital advance funds prior to initial closing.

Granted by: Brian D. Montgomery, Assistant Secretary for Housing—Federal Housing Commissioner.

Date Granted: July 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Wren's Way, Wooster, OH, Project Number: 042-HD108/OH12-Q021-006.

Nature of Requirement: Section 891.100(d) prohibits amendment of the amount of the approved capital advance funds prior to initial closing.

Granted by: Brian D. Montgomery, Assistant Secretary for Housing—Federal Housing Commissioner.

Date Granted: July 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Pecan Valley Apartments, Bono, AR, Project Number: 082-EE165/AR37-S041-005.

Nature of Requirement: Section 891.100(d) prohibits amendment of the amount of the approved capital advance funds prior to initial closing.

Granted by: Brian D. Montgomery, Assistant Secretary for Housing—Federal Housing Commissioner.

Date Granted: July 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Great Falls, Montana Supportive Housing Development, Great Falls, MT, Project Number: 093-HD018/MT99-Q031-002.

Nature of Requirement: Section 891.100(d) prohibits amendment of the amount of the approved capital advance funds prior to initial closing.

Granted by: Brian D. Montgomery, Assistant Secretary for Housing—Federal Housing Commissioner.

Date Granted: July 27, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Rivercrest Commons, Amsterdam, NY, Project Number: 014-HD119/NY06-Q031-009.

Nature of Requirement: Section 891.100(d) prohibits amendment of the amount of the approved capital advance funds prior to initial closing.

Granted by: Brian D. Montgomery, Assistant Secretary for Housing—Federal Housing Commissioner.

Date Granted: July 27, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: ABC Apartments, El Sobrante, CA, Project Number: 121-HD077/CA39-Q031-001.

Nature of Requirement: Section 891.100(d) prohibits amendment of the amount of the approved capital advance funds prior to initial closing.

Granted by: Brian D. Montgomery, Assistant Secretary for Housing—Federal Housing Commissioner.

Date Granted: July 28, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: College Park Towers II, Orlando, FL, Project Number: 067-EE125/FL29-S031-001.

Nature of Requirement: Section 891.100(d) prohibits amendment of the amount of the approved capital advance funds prior to initial closing.

Granted by: Brian D. Montgomery, Assistant Secretary for Housing—Federal Housing Commissioner.

Date Granted: July 29, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bozeman, Montana Supportive Housing Development, Bozeman, MT, Project Number: 093-HD017/MT99-Q031-001.

Nature of Requirement: Section 891.100(d) prohibits amendment of the amount of the approved capital advance funds prior to initial closing.

Granted by: Brian D. Montgomery, Assistant Secretary for Housing—Federal Housing Commissioner.

Date Granted: July 29, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Harvey II, Harvey, IL, Project Number: 071-EE174/IL06-S021-002.

Nature of Requirement: Section 891.100(d) prohibits amendment of the amount of the approved capital advance funds prior to initial closing.

Granted by: Brian D. Montgomery, Assistant Secretary for Housing—Federal Housing Commissioner.

Date Granted: July 29, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Garber Manor, Staunton, VA, Project Number: 051-EE083/VA36-S011-006.

Nature of Requirement: Section 891.100(d) prohibits amendment of the amount of the approved capital advance funds prior to initial closing.

Granted by: Brian D. Montgomery, Assistant Secretary for Housing—Federal Housing Commissioner.

Date Granted: July 29, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Matthew Manor, Raynel, LA, Project Number: 064-HD081/LA48-Q031-007.

Nature of Requirement: Section 891.100(d) prohibits amendment of the amount of the approved capital advance funds prior to initial closing.

Granted by: Brian D. Montgomery, Assistant Secretary for Housing—Federal Housing Commissioner.

Date Granted: August 2, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Indian Creek Apartments, Council Bluffs, IA, Project Number: 074-HD026/IA05-Q031-002.

Nature of Requirement: Section 891.100(d) prohibits amendment of the amount of the approved capital advance funds prior to initial closing.

Granted by: Brian D. Montgomery, Assistant Secretary for Housing—Federal Housing Commissioner.

Date Granted: August 2, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bridgeway Kewanee Housing, Kewanee, IL, Project Number: 072-HD135/IL06-Q031-011.

Nature of Requirement: Section 891.100(d) prohibits amendment of the amount of the approved capital advance funds prior to initial closing.

Granted by: Brian D. Montgomery, Assistant Secretary for Housing—Federal Housing Commissioner.

Date Granted: August 2, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Keygate Manor, Toledo, OH, Project Number: 042-EE159/OH12-S031-012.

Nature of Requirement: Section 891.100(d) prohibits amendment of the amount of the approved capital advance funds prior to initial closing.

Granted by: Brian D. Montgomery, Assistant Secretary for Housing—Federal Housing Commissioner.

Date Granted: August 3, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Seniors at Hegemon, Columbus, OH, Project Number: 043-EE085/OH16-S021-006.

Nature of Requirement: Section 891.100(d) prohibits amendment of the amount of the approved capital advance funds prior to initial closing.

Granted by: Brian D. Montgomery, Assistant Secretary for Housing—Federal Housing Commissioner.

Date Granted: August 3, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Garden Way Apartments, Hermitage, PA, Project Number: 033-EE119/PA28-S041-001.

Nature of Requirement: Section 891.100(d) prohibits amendment of the amount of the approved capital advance funds prior to initial closing.

Granted by: Brian D. Montgomery, Assistant Secretary for Housing—Federal Housing Commissioner.

Date Granted: August 5, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Pensacola Retirement Village IV, Pensacola, FL, Project Number: 063-EE035/FL29-S031-014.

Nature of Requirement: Section 891.100(d) prohibits amendment of the amount of the approved capital advance funds prior to initial closing.

Granted by: Brian D. Montgomery, Assistant Secretary for Housing—Federal Housing Commissioner.

Date Granted: August 5, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Goodwill Industries Housing II, Grand Island, NE, Project Number: 103-HD031/NE26-Q031-002.

Nature of Requirement: Section 891.100(d) prohibits amendment of the amount of the approved capital advance funds prior to initial closing.

Granted by: Brian D. Montgomery, Assistant Secretary for Housing—Federal Housing Commissioner.

Date Granted: August 10, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Mary Lee Flagship, Austin, TX, Project Number: 115-EE068/TX59-S031-002.

Nature of Requirement: Section 891.100(d) prohibits amendment of the amount of the approved capital advance funds prior to initial closing.

Granted by: Brian D. Montgomery, Assistant Secretary for Housing—Federal Housing Commissioner.

Date Granted: August 12, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Garber Manor III, Staunton, VA, Project Number: 051-EE089/VA36-S021-002.

Nature of Requirement: Section 891.100(d) prohibits amendment of the amount of the approved capital advance funds prior to initial closing.

Granted by: Brian D. Montgomery, Assistant Secretary for Housing—Federal Housing Commissioner.

Date Granted: August 12, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Donald W. Kent Residence, Northlake, IL, Project Number: 071-EE187/IL06-S031-009.

Nature of Requirement: Section 891.100(d) prohibits amendment of the amount of the approved capital advance funds prior to initial closing.

Granted by: Brian D. Montgomery, Assistant Secretary for Housing—Federal Housing Commissioner.

Date Granted: August 17, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Miracle Village, Tallahassee, FL, Project Number: 063-EE034/FL29-S031-013.

Nature of Requirement: Section 891.100(d) prohibits amendment of the amount of the approved capital advance funds prior to initial closing.

Granted by: Brian D. Montgomery, Assistant Secretary for Housing—Federal Housing Commissioner.

Date Granted: August 17, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Parker Run, Montross, VA, Project Number: 051-EE102/VA36-S031-006.

Nature of Requirement: Section 891.100(d) prohibits amendment of the amount of the approved capital advance funds prior to initial closing.

Granted by: Brian D. Montgomery, Assistant Secretary for Housing—Federal Housing Commissioner.

Date Granted: August 18, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Quaker Estates I, Portsmouth, RI, Project Number: 016-EE053/RI43-S031-004.

Nature of Requirement: Section 891.100(d) prohibits amendment of the amount of the approved capital advance funds prior to initial closing.

Granted by: Brian D. Montgomery, Assistant Secretary for Housing—Federal Housing Commissioner.

Date Granted: August 22, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Maplewood Estates, Stockton, MO, Project Number: 084-EE061/MO16-S041-004.

Nature of Requirement: Section 891.100(d) prohibits amendment of the amount of the approved capital advance funds prior to initial closing.

Granted by: Brian D. Montgomery, Assistant Secretary for Housing—Federal Housing Commissioner.

Date Granted: August 24, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: AHEPA 192-III Apartments, Ankeny, IA, Project Number: 074-EE042/IA05-S031-001.

Nature of Requirement: Section 891.100(d) prohibits amendment of the amount of the approved capital advance funds prior to initial closing.

Granted by: Brian D. Montgomery, Assistant Secretary for Housing—Federal Housing Commissioner.

Date Granted: August 25, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Sioux Falls VOA Group Home, Sioux Falls, SD, Project Number: 091-HD009/SD99-Q021-001.

Nature of Requirement: Section 891.100(d) prohibits amendment of the amount of the approved capital advance funds prior to initial closing.

Granted by: Brian D. Montgomery, Assistant Secretary for Housing—Federal Housing Commissioner.

Date Granted: August 25, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Volunteers of America Wildflower Estates, Sioux Falls, SD, Project Number: 091-HD010/SD99-Q021-002.

Nature of Requirement: Section 891.100(d) prohibits amendment of the amount of the approved capital advance funds prior to initial closing.

Granted by: Brian D. Montgomery, Assistant Secretary for Housing—Federal Housing Commissioner.

Date Granted: August 25, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Melissa Anne Hanger Apartments, Topeka, KS, Project Number: 102-HD035/KS16-Q031-002.

Nature of Requirement: Section 891.100(d) prohibits amendment of the amount of the approved capital advance funds prior to initial closing.

Granted by: Brian D. Montgomery, Assistant Secretary for Housing—Federal Housing Commissioner.

Date Granted: August 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Elm Court II, Princeton, NJ, Project Number: 035-EE048/NJ39-S031-004.

Nature of Requirement: Section 891.100(d) prohibits amendment of the amount of the approved capital advance funds prior to initial closing.

Granted by: Brian D. Montgomery, Assistant Secretary for Housing—Federal Housing Commissioner.

Date Granted: August 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: TBD—21st Association Properties, West Springfield, MA, Project Number: 023-HD196/MA06-Q031-004.

Nature of Requirement: Section 891.100(d) prohibits amendment of the amount of the approved capital advance funds prior to initial closing.

Granted by: Brian D. Montgomery, Assistant Secretary for Housing—Federal Housing Commissioner.

Date Granted: August 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bozeman Senior Housing Inc., Bozeman, MT, Project Number: 093-EE015/MT99-S031-001.

Nature of Requirement: Section 891.100(d) prohibits amendment of the amount of the approved capital advance funds prior to initial closing.

Granted by: Brian D. Montgomery, Assistant Secretary for Housing—Federal Housing Commissioner.

Date Granted: August 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Deltona Gardens, Deltona, FL, Project Number: 067-HD087/FL29-Q021-001.

Nature of Requirement: Section 891.100(d) prohibits amendment of the amount of the approved capital advance funds prior to initial closing.

Granted by: Brian D. Montgomery, Assistant Secretary for Housing—Federal Housing Commissioner.

Date Granted: August 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Indian Creek Apartments, Council Bluffs, IA, Project Number: 074-HD026/IA05-Q031-002.

Nature of Requirement: Section 891.100(d) prohibits amendment of the amount of the approved capital advance funds prior to initial closing.

Granted by: Brian D. Montgomery, Assistant Secretary for Housing—Federal Housing Commissioner.

Date Granted: August 30, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: NCR Deer Park, Deer Park, WA, Project Number: 171-EE019/WA19-S031-006.

Nature of Requirement: Section 891.100(d) prohibits amendment of the amount of the approved capital advance funds prior to initial closing.

Granted by: Brian D. Montgomery, Assistant Secretary for Housing—Federal Housing Commissioner.

Date Granted: September 8, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Mary Magdalene Apartments, New Iberia, LA, Project Number: 064-EE156/LA48-S031-010.

Nature of Requirement: Section 891.100(d) prohibits amendment of the amount of the approved capital advance funds prior to initial closing.

Granted by: Brian D. Montgomery, Assistant Secretary for Housing—Federal Housing Commissioner.

Date Granted: September 8, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: National Church Residences of Latrobe Senior Housing, Latrobe, PA, Project Number: 033-EE117/PA28-S031-005.

Nature of Requirement: Section 891.100(d) prohibits amendment of the amount of the approved capital advance funds prior to initial closing.

Granted by: Brian D. Montgomery, Assistant Secretary for Housing—Federal Housing Commissioner.

Date Granted: September 8, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: North Community Housing, Columbus, OH, Project Number: 043-EE097/OH16-S031-007.

Nature of Requirement: Section 891.100(d) prohibits amendment of the amount of the approved capital advance funds prior to initial closing.

Granted by: Brian D. Montgomery, Assistant Secretary for Housing—Federal Housing Commissioner.

Date Granted: September 8, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Saugatucket Springs, South Kingstown, RI, Project Number: 016-EE048/RI43-S021-005.

Nature of Requirement: Section 891.100(d) prohibits amendment of the amount of the approved capital advance funds prior to initial closing.

Granted by: Brian D. Montgomery, Assistant Secretary for Housing—Federal Housing Commissioner.

Date Granted: September 8, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Oberlin—VOA Living Center, Oberlin, LA, Project Number: 064-HD080/LA48-Q031-006.

Nature of Requirement: Section 891.100(d) prohibits amendment of the amount of the approved capital advance funds prior to initial closing.

Granted by: Brian D. Montgomery, Assistant Secretary for Housing—Federal Housing Commissioner.

Date Granted: September 9, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Casa de Corazones, LaCruces, NM, Project Number: 116-HD020/NM16-Q021-002.

Nature of Requirement: Section 891.100(d) prohibits amendment of the amount of the approved capital advance funds prior to initial closing.

Granted by: Brian D. Montgomery, Assistant Secretary for Housing—Federal Housing Commissioner.

Date Granted: September 9, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Villa Regina, West Palm Beach, FL, Project Number: 066-EE086/FL29-S011-010.

Nature of Requirement: Section 891.100(d) prohibits amendment of the amount of the approved capital advance funds prior to initial closing.

Granted by: Brian D. Montgomery, Assistant Secretary for Housing—Federal Housing Commissioner.

Date Granted: September 9, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Everyday Living, Washington, PA, Project Number: 033-HD088/PA28-Q041-002.

Nature of Requirement: Section 891.100(d) prohibits amendment of the amount of the approved capital advance funds prior to initial closing.

Granted by: Brian D. Montgomery, Assistant Secretary for Housing—Federal Housing Commissioner.

Date Granted: September 12, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Westerly Courts, Westerly, RI, Project Number: 016-HD041/RI43-Q021-006.

Nature of Requirement: Section 891.100(d) prohibits amendment of the amount of the approved capital advance funds prior to initial closing.

Granted by: Brian D. Montgomery, Assistant Secretary for Housing—Federal Housing Commissioner.

Date Granted: September 12, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. George Housing Corporation, Superior, WI, Project Number: 075-HD074/WI39-Q021-005.

Nature of Requirement: Section 891.100(d) prohibits amendment of the amount of the approved capital advance funds prior to initial closing.

Granted by: Brian D. Montgomery, Assistant Secretary for Housing—Federal Housing Commissioner.

Date Granted: September 12, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Von Bora Place, Titusville, PA, Project Number: 033-EE124/PA28-S041-006.

Nature of Requirement: Section 891.100(d) prohibits amendment of the amount of the approved capital advance funds prior to initial closing.

Granted by: Brian D. Montgomery, Assistant Secretary for Housing—Federal Housing Commissioner.

Date Granted: September 12, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Old Middleton Road Apartments, Madison, WI, Project Number: 075-HD082/WI39-Q041-001.

Nature of Requirement: Section 891.100(d) prohibits amendment of the amount of the approved capital advance funds prior to initial closing.

Granted by: Brian D. Montgomery, Assistant Secretary for Housing—Federal Housing Commissioner.

Date Granted: September 13, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Waukegan Supportive Housing, Waukegan, IL, Project Number: 071-HD038/IL06-Q031-007.

Nature of Requirement: Section 891.100(d) prohibits amendment of the amount of the approved capital advance funds prior to initial closing.

Granted by: Brian D. Montgomery, Assistant Secretary for Housing—Federal Housing Commissioner.

Date Granted: September 15, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Coventry Place, Bloomfield, CT, Project Number: 017-EE081/CT26-S031-006.

Nature of Requirement: Section 891.100(d) prohibits amendment of the amount of the approved capital advance funds prior to initial closing.

Granted by: Brian D. Montgomery, Assistant Secretary for Housing—Federal Housing Commissioner.

Date Granted: September 15, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Pius Place, Cincinnati, OH, Project Number: 046-EE065/OH10-S021-004.

Nature of Requirement: Section 891.100(d) prohibits amendment of the amount of the approved capital advance funds prior to initial closing.

Granted by: Brian D. Montgomery, Assistant Secretary for Housing—Federal Housing Commissioner.

Date Granted: September 19, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Pigeon Creek I, Wooster, OH, Project Number: 042-EE163/OH12-S031-016.

Nature of Requirement: Section 891.100(d) prohibits amendment of the amount of the approved capital advance funds prior to initial closing.

Granted by: Brian D. Montgomery, Assistant Secretary for Housing—Federal Housing Commissioner.

Date Granted: September 19, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Providence Senior Housing, San Francisco, CA, Project Number: 121-EE164/CA39-S031-001.

Nature of Requirement: Section 891.100(d) prohibits amendment of the amount of the approved capital advance funds prior to initial closing.

Granted by: Brian D. Montgomery, Assistant Secretary for Housing—Federal Housing Commissioner.

Date Granted: September 19, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Winfield Good Samaritan Housing, Winfield, KS, Project Number: 012-EE027/KS16-S031-001.

Nature of Requirement: Section 891.100(d) prohibits amendment of the amount of the approved capital advance funds prior to initial closing.

Granted by: Brian D. Montgomery, Assistant Secretary for Housing—Federal Housing Commissioner.

Date Granted: September 20, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: AHEPA 58-II Apartments, Wethersfield, CT, Project Number: 017-EE076/CT26-S031-001.

Nature of Requirement: Section 891.100(d) prohibits amendment of the amount of the approved capital advance funds prior to initial closing.

Granted by: Brian D. Montgomery, Assistant Secretary for Housing—Federal Housing Commissioner.

Date Granted: September 26, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Mountain Vistas II, Redding, CA, Project Number: 136-EE069/CA30-S031-001.

Nature of Requirement: Section 891.100(d) prohibits amendment of the amount of the approved capital advance funds prior to initial closing.

Granted by: Brian D. Montgomery, Assistant Secretary for Housing—Federal Housing Commissioner.

Date Granted: September 27, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Mar Vista House, Oceanside, CA, Project Number: 129-HD027/CA33-Q021-003.

Nature of Requirement: Section 891.100(d) prohibits amendment of the amount of the approved capital advance funds prior to initial closing.

Granted by: Brian D. Montgomery, Assistant Secretary for Housing—Federal Housing Commissioner.

Date Granted: September 27, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Little Falls Landing, Windham, ME, Project Number: 024-EE072/ME36-S031-001.

Nature of Requirement: Section 891.100(d) prohibits amendment of the amount of the approved capital advance funds prior to initial closing.

Granted by: Brian D. Montgomery, Assistant Secretary for Housing—Federal Housing Commissioner.

Date Granted: September 28, 2005.

Reason Waived: The project is economically designed and comparable in cost to similar projects in the area, and the Sponsor/Owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Kansas Supportive Housing, Kansas City, KS, Project Number: 084-HD042/KS16-Q021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 25, 2005.

Reason Waived: The project is economically designed and comparable to similar projects in the area, and the Sponsor/Owner has exhausted all efforts to obtain additional funding from other sources. The Sponsor/Owner required additional time to resolve issues dealing with the site owner and access to the site.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Hillside III, Vineyard Haven, MA, Project Number: 023-EE134/MA06-S011-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 1, 2005.

Reason Waived: The project is economically designed and comparable to similar projects in the area, and the Sponsor/Owner has exhausted all efforts to obtain additional funding from other sources. The Sponsor/Owner required additional time to locate a general contractor and to resolve many zoning issues.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Aidylberg II, Oak Bluffs, MA, Project Number: 023-EE160/MA06-S021-011.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 8, 2005.

Reason Waived: The project is economically designed and comparable to similar projects in the area, and the Sponsor/Owner has exhausted all efforts to obtain additional funding from other sources. The Sponsor/Owner needed additional time to secure secondary financing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Aidylberg I, Oak Bluffs, MA, Project Number: 023-EE135/MA06-S011-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 9, 2005.

Reason Waived: The project is economically designed and comparable to similar projects in the area, and the Sponsor/Owner has exhausted all efforts to obtain additional funding from other sources. The Sponsor/Owner needed additional time to secure secondary financing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Greendale Residence, Needham, MA, Project Number: 023-HD190/MA06-Q021-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 9, 2005.

Reason Waived: The project is economically designed and comparable to similar projects in the area, and the Sponsor/Owner has exhausted all efforts to obtain additional funding from other sources. The Sponsor/Owner needed additional time to secure secondary financing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Vista Villas, Pasadena, TX, Project Number: 114-HD023/TX24-Q021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 9, 2005.

Reason Waived: The project is economically designed and comparable to similar projects in the area, and the Sponsor/Owner has exhausted all efforts to obtain additional funding from other sources. The Sponsor/Owner needed additional time to secure secondary financing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Ozzie Wilson Residences, Brooklyn, NY, Project Number: 012-EE314/NY36-S011-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 15, 2005.

Reason Waived: The project is economically designed and comparable to similar projects in the area, and the Sponsor/Owner has exhausted all efforts to obtain additional funding from other sources. The Sponsor/Owner needed additional time to secure a contractor and to seek secondary financing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Beatrice Castiglia Catullo Residence, Bronx, NY, Project Number: 012-EE327/NY36-S021-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 27, 2005.

Reason Waived: The project is economically designed and comparable to similar projects in the area, and the Sponsor/Owner has exhausted all efforts to obtain additional funding from other sources. The Sponsor/Owner needed additional time to address site remediation issues.

Contact: Willie Spearmon, Director, Office of Housing Assistance and Grant Administration, Department of Housing and Urban Development, 451 Seventh Street, SW., Washington, DC 20410-8000, telephone (202) 708-3000.

• Regulation: 24 CFR 891.165.

Project/Activity: Deltona Gardens, Deltona, FL, Project Number: 067-HD087/FL29-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: July 27, 2005.

Reason Waived: The Sponsor/Owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Sky Forest Acres, South Lake Tahoe, CA, Project Number: 136-HD014/CA30-Q011-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: July 28, 2005.

Reason Waived: The Sponsor/Owner needed additional time to work on design changes and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Faith Village, Houston, TX, Project Number: 114-EE096/TX24-S021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: July 28, 2005.

Reason Waived: The Sponsor/Owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: VOA Sandusky, Sandusky, OH, Project Number: 042-HD10/OH12-Q021-008.

Nature of Requirement: Section 891.165 provides that the duration of the reservation of the capital advance is 18 months from the date of issuance with limited exceptions up to 24 months, as approved by HUD on a case-by-case basis.

Granted by: Brian D. Montgomery, Assistant Secretary for Housing—Federal Housing Commissioner.

Date Granted: September 1, 2005.

Reason Waived: The Sponsor/owner needed additional time to obtain an easement for the project.

Contact: Willie Spearmon, Director, Office of Housing Assistance and Grant Administration, Department of Housing and Urban Development, 451 Seventh Street, SW., Washington, DC 20410-8000, telephone (202) 708-3000.

• Regulation: 24 CFR 891.165.

Project/Activity: Faith Residence Apartments, Belle Plaine, MN, Project Number: 092-HD059/MN46-Q021-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 8, 2005.

Reason Waived: The Sponsor/Owner needed additional time to revise the building plans.

Contact: Willie Spearmon, Director, Office of Housing Assistance and Grant Administration, Department of Housing and Urban Development, 451 Seventh Street, SW., Washington, DC 20410-8000, telephone (202) 708-3000.

• Regulation: 24 CFR 891.165.

Project/Activity: Anixter Village, Chicago, IL, Project Number: 071-HD128/IL06-Q021-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 9, 2005.

Reason Waived: Additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: LSS Housing Eau Claire, Eau Claire, WI, Project Number: 075-HD080/WI39-Q031-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 15, 2005.

Reason Waived: Additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Willow Bend Creek Apartments, Fort Worth, TX, Project Number: 113-HD020/TX21-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 19, 2005.

Reason Waived: The Sponsor/Owner needed additional time to review the new plans for the project.

Contact: Willie Spearmon, Director, Office of Housing Assistance and Grant Administration, Department of Housing and Urban Development, 451 Seventh Street, SW., Washington, DC 20410-8000, telephone (202) 708-3000.

• Regulation: 24 CFR 891.165.

Project/Activity: Fayette Hills Unity, Oak Hill, WV, Project Number: 045-HD033/WV15-Q011-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 19, 2005.

Reason Waived: Additional time was needed to process the revised firm commitment application.

Contact: Willie Spearmon, Director, Office of Housing Assistance and Grant Administration, Department of Housing and Urban Development, 451 Seventh Street, SW., Washington, DC 20410-8000, telephone (202) 708-3000.

• Regulation: 24 CFR 891.165.

Project/Activity: La Palma Apartments, Miami, FL, Project Number: 066-EE093/FL29-S21-014.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 22, 2005.

Reason Waived: The Sponsor/Owner needed additional time to finalize the plans and to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Apple Grove II Apartments, Lisbon, OH, Project Number: 042-HD103/OH12-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 26, 2005.

Reason Waived: Additional time was needed for HUD to process the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Villa Regina, West Palm Beach, FL, Project Number: 066-EE086/FL29-S011-010.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 27, 2005.

Reason Waived: The Sponsor/Owner needed additional time to re-bid the construction contract, obtain revised cost analysis and to secure secondary financing.

Contact: Willie Spearmon, Director, Office of Housing Assistance and Grant Administration, Department of Housing and Urban Development, 451 Seventh Street, SW., Washington, DC 20410-8000, telephone (202) 708-3000.

• Regulation: 24 CFR 891.205.

Project/Activity: Northwood Elderly Housing, Northwood, NH, Project Number: 024-EE064/NH36-S011-003.

Nature of Requirement: Section 891.205 requires Section 202 Owners to have tax-exempt status under Section 501(c)(3) or (c)(4) of the Internal Revenue Code.

Granted by: Brian D. Montgomery, Assistant Secretary for Housing—Federal Housing Commissioner.

Date Granted: September 28, 2005.

Reason Waived: The required tax-exemption ruling from IRS was not received for the Owner in time for the scheduled initial closing of the project.

Contact: Willie Spearmon, Director, Office of Housing Assistance and Grant Administration, Department of Housing and Urban Development, 451 Seventh Street, SW., Washington, DC 20410-8000, telephone (202) 708-3000.

• Regulation: 24 CFR 891.205.

Project/Activity: Housing Opportunities, Bayshore, NY, Project Number: 012-HD118/NY36-Q031-003.

Nature of Requirement: Section 891.205 requires Section 202 Owners to have tax-exempt status under Section 501(c)(3) or (c)(4) of the Internal Revenue Code.

Granted by: Brian D. Montgomery, Assistant Secretary for Housing—Federal Housing Commissioner.

Date Granted: September 28, 2005.

Reason Waived: The required tax-exemption ruling from IRS was not received for the Owner in time for the scheduled initial closing of the project.

Contact: Willie Spearmon, Director, Office of Housing Assistance and Grant Administration, Department of Housing and Urban Development, 451 Seventh Street, SW., Washington, DC 20410-8000, telephone (202) 708-3000.

• Regulation: 24 CFR 891.310(b)(1) and (b)(2).

Project/Activity: Share XI, Medford, NY, Project Number: 012-HD116-NY36-Q031-001.

Nature of Requirement: Section 891.310(b)(1) and (b)(2) requires that all entrances, common areas, units to be occupied by resident staff, and amenities must be readily accessible to and usable by persons with disabilities.

Granted by: Brian D. Montgomery, Assistant Secretary for Housing—Federal Housing Commissioner.

Date Granted: September 23, 2005.

Reason Waived: The project consists of acquisition and rehabilitation of five single-family structures to be used as group homes for independent living for persons with chronic mental illness. One home will be made fully accessible, which will result in the total project meeting the accessibility requirements under section 504 of the Rehabilitation Act of 1973.

Contact: Willie Spearmon, Director, Office of Housing Assistance and Grant Administration, Department of Housing and Urban Development, 451 Seventh Street, SW., Washington, DC 20410-8000, telephone (202) 708-3000.

• Regulation: 24 CFR 891.310(b)(1) and (b)(2).

Project/Activity: Housing Opportunities, Bayshore, NY, Project Number: 012-HD118/NY36-Q031-003.

Nature of Requirement: Section 891.310(b)(1) and (b)(2) requires that all entrances, common areas, units to be occupied by resident staff, and amenities must be readily accessible to and usable by persons with disabilities.

Granted by: Brian D. Montgomery, Assistant Secretary for Housing—Federal Housing Commissioner.

Date Granted: September 29, 2005.

Reason Waived: The project consists of two group homes for independent living for persons with chronic mental illness. One home will be made fully accessible, which will result in the total project meeting the accessibility requirements under section 504 of the Rehabilitation Act of 1973.

Contact: Willie Spearmon, Director, Office of Housing Assistance and Grant Administration, Department of Housing and Urban Development, 451 Seventh Street, SW., Washington, DC 20410-8000, telephone (202) 708-3000.

• Regulation: 24 CFR 891.410(c).

Project/Activity: Parker Heights Apartments, Parker, Pennsylvania, FHA Project Number 033-EE019.

Nature of Requirement: HUD regulations at 24 CFR 891 require occupancy to be limited to Very Low Income elderly persons (i.e., households composed of one or more persons at least one of whom is 62 years of age at the time of initial occupancy). Regulations also require that an owner is to determine the eligibility in selecting tenants.

Granted by: Brian D. Montgomery, Assistant Secretary for Housing—Federal Housing Commissioner.

Date Granted: July 29, 2005.

Reason Waived: The Assistant Secretary for Housing granted waiver of this request based on the project's difficulty in maintaining full occupancy. This is a 27-unit property located in a very rural area with few conveniences for senior citizens. There are currently 7 vacant units with one notice to vacate. While nearby Housing Authorities have persons on their waiting lists who are age/income eligible, they are not interested in moving to Parker Heights. Management has continued to aggressively market the property but the property is still experiencing occupancy problems. This waiver will allow the property to rent to persons who are at the low-income limits between 51 and 80 percent of area median income, and to persons who are near-elderly, between the ages of 50 and 62. This will allow the owner flexibility in renting these vacant units and perhaps start a waiting list.

Contact: Beverly J. Miller, Director, Office of Asset Management, Department of Housing and Urban Development, 451 Seventh Street, SW., Washington, DC 20410-7000, telephone (202) 708-3730, extension 2598.

• Regulation: 24 CFR 891.410(c).

Project/Activity: Chestnut Manor Apartments, Weirton, West Virginia, FHA Project Number 045-HD032.

Nature of Requirement: HUD regulations at 24 CFR 891 require occupancy to be limited to Very Low Income elderly persons (i.e., households composed of one or more persons at least one of whom is 62 years of age at the time of initial occupancy). Regulations also require that an owner is to determine the eligibility in selecting tenants.

Granted by: Brian D. Montgomery, Assistant Secretary for Housing—Federal Housing Commissioner.

Date Granted: July 29, 2005.

Reason Waived: The Assistant Secretary for Housing granted this waiver to alleviate current vacancy problems. This 20-unit property has a Section 811 Capital Advance for the disabled and subsidized 100 percent through a Project Rental Assistance Contract. The property was granted occupancy in 2004 and has still not reached 97 percent occupancy. Due to market problems, the property has experienced a vacancy rate of at least 47 percent since initial occupancy. There are currently 8 vacancies. The management agent continues to work closely with community organizations, as well as advertise through the media to attract very low-income persons with disabilities. This waiver allows the owner to permit admission of lower-income applicants when there are no very-low income applicants to fill vacancies. This waiver will allow the property additional flexibility in attempting to rent vacant units and perhaps start a waiting list.

Contact: Beverly J. Miller, Director, Office of Asset Management, Department of Housing and Urban Development, 451 Seventh Street, SW., Washington, DC 20410-7000, telephone (202) 708-3730, ext. 2598.

• Regulation: 24 CFR 891.410(c).

Project/Activity: The Oaks, Gary, West Virginia, FHA Project Number 045-EE014.

Nature of Requirement: HUD regulations at 24 CFR 891 requires occupancy to be limited to Very Low Income elderly persons (i.e., households composed of one or more persons at least one of whom is 62 years of age at the time of initial occupancy). Regulations also require that an owner is to determine the eligibility in selecting tenants.

Granted by: Brian D. Montgomery, Assistant Secretary for Housing—Federal Housing Commissioner.

Date Granted: August 30, 2005.

Reason Waived: The Assistant Secretary for Housing granted this waiver to alleviate the current occupancy problem at this project. This is a 16-unit property with 15 of its units covered under a Project Rental Assistance Contract. There are currently 13 vacant units. The project has not reach 97 percent occupancy since it was granted occupancy in August 2004. The property owner continues to aggressively advertise and market the property. The Housing Authority of Mingo County has advised they have approximately 1,100 persons on their waiting list with only three of those eligible for the Oaks. This waiver will permit admission of lower-income (persons with incomes between 50 and 80 percent of median income) elderly applicant when there are no very-low income elderly applicants to fill vacancies. Current occupancy levels will not support operations of the project. This waiver will allow additional flexibility in renting up vacant units and perhaps start a waiting list.

Contact: Beverly J. Miller, Director, Office of Asset Management, Department of Housing and Urban Development, 451 Seventh Street, SW., Washington, DC 20410-7000, telephone (202) 708-3730, ext. 2598.

III. Regulatory Waivers Granted by the Office of Public and Indian Housing

For further information about the following regulatory waivers, please see the name of the contact person that immediately follows the description of the waiver granted.

• Regulation: 24 CFR 902.40.

Project/Activity: Hamtramck Housing Authority (MI004) Hamtramck, MI,

Nature of Requirement: The objective of the Management Operations Indicator of the Public Housing Assessment System (PHAS) is to measure certain key management operations and responsibilities of a public housing agency (PHA) or the purpose of assessing the PHA's management operations capabilities. The PHA is required to submit its management operations certification within two months after the PHA's fiscal year end. The PHA requested a waiver of the submission due date.

Granted by: Paula O. Blunt, General Deputy Assistant Secretary for Public and Indian Housing.

Date Granted: August 17, 2005.

Reason Waived: The PHA's management operations certification was submitted timely, but was rejected because someone other than the Executive Director (ED), who was removed from office, submitted it. The PHA justified the reason for the removal of the ED, and the problems encountered during the transition. The PHA was granted a waiver of the submission due date to resubmit its management operations certification.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: Housing Authority of the City of Orange (TX037), Orange, TX.

Nature of Requirement: The regulation at 24 CFR 902.30 establishes that the audited financial statements be submitted no later than nine months after the PHA's fiscal year end, in accordance with the Single Audit Act and OMB Circular A-133. The PHA requested a 30-day extension of the due date to submit its audited financial data.

Granted By: Paula O. Blunt, General Deputy Assistant Secretary for Public and Indian Housing.

Date Granted: August 17, 2005.

Reason Waived: The PHA's auditor was able to complete two of the three submission steps on the evening of June 30, 2005, but when the PHA attempted to electronically file the audited submission, it encountered system problems, and could not access the system to electronically file the audited submission. The PHA documented through screen shots the access and system problems encountered. The PHA attempted to submit its audited financial submission on time and the documentation provided gave evidence that the circumstances surrounding the failure to complete the submission were unusual and beyond the PHA's control.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: Housing Authority of New Orleans (LA001), New Orleans, LA.

Nature of Requirement: The regulation at 24 CFR 902.30 establishes that the audited financial statements be submitted no later than nine months after the housing authority's (HA) fiscal year end, in accordance with the Single Audit Act and OMB Circular A-133. The PHA requested a waiver of the audited financial submission due date because of complex financial transactions and other mitigating circumstances including eight complex mixed finance transactions, and change in accounting methods.

Granted By: Paula O. Blunt, General Deputy Assistant Secretary for Public and Indian Housing.

Date Granted: August 30, 2005.

Reason Waived: The circumstances surrounding the submission were unusual and beyond the PHA's control. The PHA staff was unfamiliar and inexperienced with mixed finance transactions and accounting procedures. The PHA was granted thirty days to complete and resubmit the audited financial information.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: Dallas Housing Authority (TX009), Dallas, TX.

Nature of Requirement: The regulation at 24 CFR 902.30 establishes that the Audited financial statements be submitted no later than nine months after the housing authority's (HA) fiscal year end, in accordance with the Single Audit Act and OMB Circular A-133. Due to an unforeseen issue, the PHA had to reissue its 2003 annual financial audit before issuing its 2004 Comprehensive Annual Financial Report.

Granted by: Paula O. Blunt, General Deputy Assistant Secretary for Public and Indian Housing.

Date Granted: September 28, 2005.

Reason Waived: An unforeseen issue that was not identified at the time of the engagement contract, pertaining to the accelerated depreciation related to the demolition of an apartment project, caused the current auditors to require re-issuance of the PHA's 2003 annual financial audit from the prior audit firm. Due to this unforeseen issue, the PHA had to reissue its 2003 annual financial audit before issuing its 2004 Comprehensive Annual Financial Report. The PHA received an extension of the due date to October 28, 2005, to complete and submit the audited financial information.

Contact: David R. Ziaya, Program Manager, NASS, Real Estate Assessment Center, Office of Public and Indian Housing, Department of Housing and Urban Development, 550 12th Street, SW., Suite 100, Washington, DC 20410-5000, telephone (202) 475-8574.

• Regulation: CFR 982.505(c)(3).

Project/Activity: Longmont Housing Authority (LHA), Longmont, CO. The LHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 28, 2005.

Reason Waived: The waiver was granted because this cost-saving measure would enable the LHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Olathe Housing Authority (OHA), Olathe, KS. The OHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 28, 2005.

Reason Waived: The waiver was granted because this cost-saving measure would enable the OHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register notice, Revisions to PHA Project-Based Assistance (PBA) Program; Initial Guidance.

Project/Activity: Housing Authority of Winston-Salem (HAWS), Winston-Salem, NC. The HAWS requested an exception to the 25 percent cap on the number of units that can have PBA attached in a building to permit it to attach PBA to 28 units at Happy Hills Gardens.

Nature of Requirement: Section II subpart F of the initial guidance requires that not more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Paula O. Blunt, General Deputy Assistant Secretary for Public and Indian Housing.

Date Granted: July 27, 2005.

Reason Waived: An exception to the 25 percent cap was granted since, through partnerships developed in conjunction with the development of a HOPE VI Community and Supportive Services plan, a full array of supportive services will be provided based on the individual family's case management assessment. The following supportive services will be available through these partnerships: employment assistance; entrepreneurship training; childcare, and transportation. The partners include: Winston-Salem Transit Authority; Goodwill Industries; Workforce Development Board; Forsyth County Department of Social Services; Forsyth Technical Community College; Forsyth Technical Community College Small Business Center; and the Winston-Salem Urban League.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Chicago Housing Choice Voucher Program (CHAC), Chicago, IL. The CHAC is requesting approval of a special exception payment standard that exceeds 120 percent of the fair market rent as a reasonable accommodation for a housing choice voucher holder's disability.

Nature of Requirement: 24 CFR 982.505(d) allows a PHA to approve a higher payment standard within the basic range for a family that includes a person with a disability as a reasonable accommodation in accordance with 24 CFR part 8.

Granted by: Michael Liu, Assistant Secretary for Public and Indian Housing.

Date Granted: July 25, 2005.

Reason Waived: Approval of the waiver was granted to allow a disabled housing choice voucher holder to continue to remain in her current unit because it is in close proximity of the services she utilizes and so she can live independently.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Rochester Housing Authority (RHA), Rochester, NY. The RHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 22, 2005.

Reason Waived: The waiver was granted because this cost-saving measure would enable the RHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Chicago Housing Authority (CHA), Chicago, IL. The CHA requested an exception to the deconcentration requirements to permit it to attach PBA to 50 units in Cleveland Tower. The project is located in census tract 819 that has a poverty rate of 66.1 percent.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: July 22, 2005.

Reason Waived: An exception to the deconcentration requirements was granted since in the prior six months, nine properties in the census tract have sold for prices ranging from $326,000 to $919,000 with an average sales price of $553,722. Across the street from the western boundary of the census tract and two blocks west of Cleveland Tower are two new developments, Domain Lofts and River Village. The average sales price for a unit in Domain Lofts is $613,770 and $650,000 is the average sales price for a unit in River Village. This housing activity is consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Chicago Housing Authority (CHA), Chicago, IL. The CHA requested an exception to the deconcentration requirements to permit it to attach PBA to 39 units in the Washington Park Single Room Occupancy project. The project is located in census tract 3818 that has a poverty rate of 49.8 percent.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: July 22, 2005.

Reason Waived: An exception to the deconcentration requirements was granted since the project is located in a HUD-designated Enterprise Zone. The purpose of establishing Enterprise Zones is to open new businesses, and create jobs, housing, and new educational and healthcare opportunities for thousands of Americans. The goals of an Enterprise Zone are consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: New York Division of Housing and Community Renewal (NYDHCR), Newburgh, NY. The NYDHCR requested an exception to the deconcentration requirements to permit it to attach PBA to 20 single-family homes that comprise the Lander Street Project. The project is located in census tract 4 that has a poverty rate of 36.7 percent.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: July 20, 2005.

Reason Waived: An exception to the deconcentration requirements was granted since the project is located in the Kingston-Newburgh's HUD-designated Enterprise Community. The purpose of establishing enterprise communities is to open new businesses, and create jobs, housing, and new educational and healthcare opportunities for thousands of Americans. The goals of an enterprise community are consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register notice, Revisions to PHA Project-Based Assistance Program; Initial Guidance.

Project/Activity: Massachusetts Department of Housing and Community Development (DHCD), Boston, MA. The DHCD requested an exception to the 25 percent cap on the number of units in a building that can have PBA attached to permit it to attach PBA to 15 units at the Earle Street project.

Nature of Requirement: Section II subpart F of the initial guidance requires that unless waived, no more than 25 percent of the dwelling units in any building may be assisted under a housing assistance payments (HAP) contract for PBA except for dwelling units that are specifically made available for elderly families, disabled families and families receiving supportive services. Until regulations are promulgated regarding the category of families receiving supportive services, Headquarters is authorizing implementation of this aspect of the law on a case-by-case basis.

Granted by: Paula O. Blunt, General Deputy Assistant Secretary for Public and Indian Housing.

Date Granted: July 17, 2005.

Reason Waived: Approval of an exception to the unit cap was granted based on the nature of the services families would receive. The services families will receive focus on obtaining and retaining financial and medical benefits, behavior assessments, transportation, and eviction prevention.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of Christian County (HACC), Pana, IL. The HACC requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 15, 2005.

Reason Waived: The waiver was granted because this cost-saving measure would enable the HACC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Providence Housing Authority (PHA), Providence, RI. The PHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 15, 2005.

Reason Waived: The waiver was granted because this cost-saving measure would enable the PHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Martinsburg (HACM), Martinsburg, WV. The HACM requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 15, 2005.

Reason Waived: The waiver was granted because this cost-saving measure would enable the HACM to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c) and 983.7(f)(2)(ii), Section II subpart E of the January 16, 2001, Federal Register notice, Revisions to PHA Project-Based Assistance (PBA) Program; Initial Guidance, and 24 CFR 983.203(a)(3).

Project/Activity: Peoria Housing Authority (PHA), Peoria, IL. The PHA requested a waiver of the competitive selection requirements, an exception to the deconcentration requirements and a waiver of waiting list requirements to permit it to attach PBA to six units in the second phase of River West South, a HOPE VI project.

Nature of Requirement: Sections 983.51(a), (b) and (c) and 983.7(f)(2)(ii) require that the public housing agency (PHA) adopt a written policy establishing competitive procedures for selection of owner proposals and, if the PHA submits a proposal for units it owns, the HUD field office makes the selection in accordance with the PHA's unit selection policy. Section II subpart E of the initial guidance requires that in order to meet the Department's goal of deconcentration and expanding housing and economic opportunities, the projects must be in census tracts with poverty rates of less than 20 percent. The regulation at 24 CFR 983.203(a)(2) states that if a PHA opts to have a separate PBA waiting list, it may use a single waiting list for all PBA projects or may use a separate PBA waiting list for an area not smaller than a county or municipality.

Granted by: Paula O. Blunt, General Deputy Assistant Secretary for Public and Indian Housing.

Date Granted: July 15, 2005.

Reason Waived: Competitive selection of owner proposals was waived since the project, with the Peoria Housing Authority as developer, was competitively selected by the Department to receive a HOPE VI grant to redevelop the former Warner Homes and the surrounding area. An exception to the deconcentration requirements was granted since there will be a decrease of 174 assisted units in the census tract. A waiver of the waiting list requirements was approved since Section 8(o)(13)(J) of the U.S. Housing Act of 1937 as amended, allows, subject to a PHA's waiting list policies and selection preferences, the maintenance of separate waiting lists for PBA structures as long as all families on the PHA's waiting list for both tenant-based assistance and PBA can place their names on any of the separate PBA waiting lists. The PBA program proposed rule published in the Federal Register on March 18, 2004, addressed the implementation of this aspect of the law by allowing PHAs to use separate waiting lists for PBA units.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Housing Authority of the City of Hartford (HACH), Hartford, CT. The HACH requested an exception to the initial guidance for the Community Renewal Team project that is located in a census tract with a poverty rate greater than 20 percent.

Nature of Requirement: Section II subpart E requires that all new project-based assistance agreements or HAP contracts be for units in census tracts with poverty rates of less than 20 percent.

Granted by: Paula O. Blunt, General Deputy Assistant Secretary for Public and Indian Housing.

Date Granted: July 15, 2005.

Reason Waived: Approval of the exception for deconcentration was granted since the PBA units would be located in an area in which major economic development projects are under construction including a shopping center, first time homebuyers assistance for 26 units, and social services programs focusing on employment and job training development. Such activities support the goal of deconcentrating poverty and expanding housing and economic opportunities and the exception was therefore granted.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance Program; Initial Guidance and Section II subpart F of the January 16, 2001, Federal Register Notice, Revisions to PHA Project-Based Assistance Program; Initial Guidance.

Project/Activity: Massachusetts Department of Housing and Community Development (DHCD), Boston, MA. The DHCD requested an exception to the initial guidance for the HarborCOV 63 Washington Street project that is located in a census tract with a poverty rate greater than 20 percent. The DHCD also requested an exception to the 25 percent cap on the number of units in a building that can have PBA attached to permit it to attach PBA to 24 units at the HarborCOV 63 Washington Street project.

Nature of Requirement: Section II subpart E requires that all new project-based assistance agreements or HAP contracts be for units in census tracts with poverty rates of less than 20 percent. Section II subpart F of the initial guidance requires that unless waived, no more than 25 percent of the dwelling units in any building may be assisted under a housing assistance payments (HAP) contract for PBA except for dwelling units that are specifically made available for elderly families, disabled families and families receiving supportive services. Until regulations are promulgated regarding the category of families receiving supportive services, Headquarters is authorizing implementation of this aspect of the law on a case-by-case basis.

Granted by: Paula O. Blunt, General Deputy Assistant Secretary for Public and Indian Housing.

Date Granted: July 15, 2005.

Reason Waived: Approval of the exception for deconcentration was granted since the poverty rate significantly decreased from the 1990 census as a result of public and private investment and redevelopment in the area. New jobs have been created and the construction of a 200-unit luxury rental development will attract higher income residents thereby resulting in a drop in the poverty rate.

An exception to the unit cap was granted based on the nature of the services families would receive. The services will focus on economic self-sufficiency including economic literacy, education training and employment opportunities.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c) and 983.56.

Project/Activity: Winnebago County Housing Authority (WCHA), Rockford, IL. The WCHA requested a waiver of the competitive selection requirements, to permit it to attach PBA to 11 units at the Champion Park Development.

Nature of Requirement: Regulations at 24 CFR 983.51(a) (b) and (c) require that the public housing agency (PHA) adopt a written policy establishing competitive procedures for selection of owner proposals and, if the PHA submits a proposal for units it owns, the HUD field office makes the selection in accordance with the PHA's unit selection policy. Regulations at 24 CFR 983.56 require HUD field office review and approval of owner applications for project-based voucher assistance.

Granted by: Paula O. Blunt, General Deputy Assistant Secretary for Public and Indian Housing.

Date Granted: July 13, 2005.

Reason Waived: Competitive selection of owner proposals was waived since the developer, of the project was competitively selected by the Department to receive a HOPE VI grant to redevelop a severely distressed public housing project.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a) (b) and (c), 983.55(a) and (d), 983.56(c), and 983.7(f)(2)(ii), Section II subpart F of the January 16, 2001, Federal Register notice, Revisions to PHA Project-Based Assistance (PBA) Program; Initial Guidance, and 24 CFR 983.203(a)(3).

Project/Activity: Housing Authority of the City of Stamford (HACS), Stamford, CT. The HACS requested a waiver of the competitive selection requirements, an exception to the 25 percent cap on the number of units that can have PBA attached in a building, and a waiver of waiting list requirements to permit it to attach PBA to 13 units at Fairfield Commons, 10 units at Taylor Street Apartments and 50 units at Richmond Hill Apartments.

Nature of Requirement: Regulations at 24 CFR 983.51(a) (b) and (c), 983.55(a) and (d), 983.56(c), and Section 983.7(f)(2)(ii) require that the public housing agency (PHA) adopt a written policy establishing competitive procedures for selection of owner proposals and, if the PHA submits a proposal for units it owns, the HUD field office makes the selection in accordance with the PHA's unit selection policy. Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis. The regulation at 24 CFR 983.203(a)(2) states that if a PHA opts to have a separate PBA waiting list, it may use a single waiting list for all PBA projects or may use a separate PBA waiting list for an area not smaller than a county or municipality.

Granted by: Paula O. Blunt, General Deputy Assistant Secretary for Public and Indian Housing.

Date Granted: July 8, 2005.

Reason Waived: Competitive selection of owner proposals was waived since the co-developer for Taylor Street Apartments and Richmond Hill (Alpert Group of New Jersey) and the co-developer of Fairfield Commons (Mutual Housing Association of Southwestern Connecticut) were competitively selected by the HACS as the HOPE VI partner in an open procurement process. An exception to the 25 percent cap was granted for the 13 units at Fairfield Commons since families receiving supportive services through the HACS’ Family Self-Sufficiency program will occupy the units. A waiver of the waiting list requirements was granted since Section 8(o)(13)(J) of the U.S. Housing Act of 1937 as amended, allows, subject to a PHA's waiting list policies and selection preferences, the maintenance of separate waiting lists for PBA structures as long as all families on the PHA's waiting list for PBA can place their names on any of the separate PBA waiting lists. The PBA program proposed rule published in the Federal Register on March 18, 2004, addressed the implementation of this aspect of the law by allowing PHAs to use separate waiting lists for PBA units.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Marin County Housing Authority (MCHA), Marin County, CA. The MCHA requested an exception to the deconcentration requirements to permit it to attach PBA to10 units at Casa Vista Apartments in census tract 1122 with a poverty rate of 20.99 percent.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: July 8, 2005.

Reason Waived: An exception to the deconcentration requirements was granted since there are currently two publicly sponsored projects within the census tract (the expansion and improvement of the Pickleweed Park Community Center and streetscape improvements to a critical intersection within the Canal Area Housing Improvement Program area). The combined public and private investment in these two initiatives is approximately $8 million. Each project has a local hiring mandate where, to the extent that local residents participate in the projects through apprenticeship programs, they will have an opportunity to secure membership in a trade union and be eligible for union wages. Other planned economic development activities in the census tract include, but are not limited to, a Best Buy store, the remodeling of a Toyota car dealership, and a Hilton Gardens Hotel. The planned development of these projects represents a high level of private investment within the census tract and a significant number of construction and permanent jobs.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Harrison County Housing Authority (HCHA), Clarksburg, WV. The HCHA requested a waiver of payment standard (PS) requirements to permit it to implement reduced PSs earlier than required to avoid termination of housing assistance payments (HAP) contracts during calendar year 2005 due to insufficient funding.

Nature of Requirement: 24 CFR 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: July 7, 2005.

Reason Waived: The waiver was granted because this cost-saving measure would enable the HCHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

•Regulation: 24 CFR 982.505(c)(3).

Project/Activity: Boonville Housing Authority (BHA), Boonville, NY. The BHA requested a waiver of payment standard (PS) requirements to permit it to implement reduced PSs earlier than required to avoid termination of housing assistance payments (HAP) contracts during calendar year 2005 due to insufficient funding.

Nature of Requirement: 24 CFR 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 11, 2005.

Reason Waived: The waiver was granted because this cost-saving measure would enable the BHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Leavenworth Housing Authority (LHA), Leavenworth, KS. The LHA requested a waiver of payment standard (PS) requirements to permit it to implement reduced PSs earlier than required to avoid termination of housing assistance payments (HAP) contracts during calendar year 2005 due to insufficient funding.

Nature of Requirement: 24 CFR 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 11, 2005.

Reason Waived: The waiver was granted because this cost-saving measure would enable the LHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: San Juan Housing Authority (SJHA), San Juan, TX. The SJHA requested a waiver of payment standard (PS) requirements to permit it to implement reduced PSs earlier than required to avoid termination of housing assistance payments (HAP) contracts during calendar year 2005 due to insufficient funding.

Nature of Requirement: 24 CFR 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 11, 2005.

Reason Waived: The waiver was granted because this cost-saving measure would enable the SJHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.7(c)(5).

Project/Activity: Adams County Housing Authority (ACHA), Gettysburg, PA. The ACHA requested a waiver ineligible housing types so that it could attach project-based assistance (PBA) eight units at Oxford Manor.

Nature of Requirement: Section 983.7(c)(5) states that a public housing agency (PHA) may not attach or pay assistance to units in a Rural Development Administration Section 515 project.

Granted by: Paula O. Blunt, General Deputy Assistant Secretary for Public and Indian Housing.

Date Granted: August 11, 2005.

Reason Waived: The waiver was granted since 24 CFR 983.54(f) of the project-based voucher program proposed rule published in the Federal Register on March 18, 2004, lifted that restriction. That section of the proposed rule specifically states that a PHA may attach assistance for a unit subsidized with Section 515 interest reduction payments.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Charlotte Housing Authority (CHA), Charlotte, NC. The CHA requested an exception to the deconcentration requirements so that it could attach PBA to 60 units at 940 Brevard. The project is located in census tract 6 that has a poverty rate of 47.3 percent.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: August 11, 2005.

Reason Waived: An exception to the deconcentration requirements was granted since this project is part of the Belmont Area Revitalization Plan that calls for significant infrastructure and housing investment. Public and private investment in the Belmont neighborhood includes $15 million committed by the City of Charlotte and $65 million committed by Wachovia Bank in support of the Piedmont Courts HOPE VI project, which is designed to create a mixed income community. As a result, over the past 18 months, single-family home sales in the Belmont area have increased from $50,000-$60,000 to $110,000-$132,000. This housing activity is consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subparts E and F of the January 16, 2001, Federal Register notice, Revisions to PHA Project-Based Assistance (PBA) Program; Initial Guidance.

Project/Activity: Charlotte Housing Authority (CHA), Charlotte, NC. The CHA requested an exception to the deconcentration requirements and the cap on the number of units in a building that can have PBA attached so that it could attach PBA to 30 units at Siegle 60. The project is located in census tract 5 that has a poverty rate of 40.5 percent.

Nature of Requirement: Section II subpart E of the initial guidance requires that in order to meet the Department's goal of deconcentration and expanding housing and economic opportunities, the projects must be in census tracts with poverty rates of less than 20 percent. Section II subpart F requires that not more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Paula O. Blunt, General Deputy Assistant Secretary for Public and Indian Housing.

Date Granted: August 11, 2005.

Reason Waived: An exception to the deconcentration requirements was granted since this project is part of the Belmont Area Revitalization Plan that calls for significant infrastructure and housing investment. Public and private investment in the Belmont neighborhood includes $15 million committed by the City of Charlotte and $65 million committed by Wachovia Bank in support of the Piedmont Courts HOPE VI project, which is designed to create a mixed income community. As a result, over the past 18 months, single-family home sales in the Belmont area have increased from $50,000-$60,000 to $110,000-$132,000. This housing activity is consistent with the goal of deconcentrating poverty and expanding housing and economic opportunities. An exception to the 25 percent cap was granted since the families occupying all of the PBA units in Seigle 60 will receive supportive services through the CHA's Family Self-Sufficiency program. The supportive services will include: daycare; GED preparation; continuing adult education; homeownership counseling; computer training; and money management training.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Marion County Housing Authority (MCHA), Salem, OR. The MCHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 4, 2005.

Reason Waived: The waiver was granted because this cost-saving measure would enable the MCHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.151(c).

Project/Activity: Oakland Housing Authority (OHA), Oakland, CA. The OHA requested a waiver of the regulation so that it could renew project-based certificate (PBC) housing assistance payments (HAP) contracts for Dignity Housing West/Harp Plaza and the Oaks Hotel beyond the expiration date of the Annual Contributions Contract since funding increments are only renewed for terms less than a year.

Nature of Requirement: The regulation requires that, with HUD field office approval, and at the sole option of the public housing agency (PHA), PHAs may renew expiring HAP contracts for such period or periods as the HUD field office determines appropriate to achieve long-term affordability of the assisted housing, provided that the term does not extend beyond the Annual Contributions Contract expiration date for the funding source. PHAs must identify the funding source for renewals; different funding sources may be used for the initial term and renewal terms of the HAP contract.

Granted by: Paula O. Blunt, General Deputy Assistant Secretary for Public and Indian Housing.

Date Granted: September 7, 2005.

Reason Waived: Approval to waive the regulation was granted in order to allow the OHA to provide rental assistance at these developments up to the maximum 15 years allowed under the PBC HAP contracts without having to request HUD field office approval to do so every year or less.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subparts E and F of the January 16, 2001, Federal Register notice, Revisions to PHA Project-Based Assistance (PBA) Program; Initial Guidance.

Project/Activity: Massachusetts Department of Housing and Community Development (MDHCD), Boston, MA. The MDHCD requested an exception to the deconcentration requirements and an exception to the number of units that can have PBA attached in a building so that it could attach PBA to more than 25 percent of the units at Casa Familias Unidas. The project is located in census tract 801 that has a poverty rate of 29.83 percent.

Nature of Requirement: Section II subpart E of the initial guidance requires that in order to meet the Department's goal of deconcentration and expanding housing and economic opportunities, the projects must be in census tracts with poverty rates of less than 20 percent. Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Paula O. Blunt, General Deputy Assistant Secretary for Public and Indian Housing.

Date Granted: September 12, 2005.

Reason Waived: An exception to the deconcentration requirements was granted since the project is located in the City of Boston's HUD-designated Empowerment Zone. The purpose of establishing Empowerment Zones is to open new businesses, and create jobs, housing, and new educational and healthcare opportunities for thousands of Americans. These goals are consistent with the goal of deconcentrating poverty and expanding housing and economic opportunities. An exception to the 25 percent cap was granted since Casa Esperanza will provide the following on-site services to all residents of the PBA units at the Casa Familias project: Job training workshops/career counseling, family case management and related services, and parenting skills workshops.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Freeport (HACF), Freeport, IL. The HACF requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: September 12, 2005.

Reason Waived: The waiver was granted because this cost-saving measure would enable the HACF to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subparts E and F of the January 16, 2001, Federal Register notice, Revisions to PHA Project-Based Assistance (PBA) Program; Initial Guidance.

Project/Activity: Housing Authority of the City of Stamford (HACS), Stamford, CT. The HACS requested an exception to the deconcentration requirements so that it could attach PBA to units at Richmond Hill Apartments located in census tract 201 that has a poverty rate of 21.5 percent. The HACS requested an exception to the number of units that can have PBA attached in a building so that it could attach PBA to more than 25 percent of the units at Richmond Hill Apartments and Taylor Street Apartments.

Nature of Requirement: Section II subpart E of the initial guidance requires that in order to meet the Department's goal of deconcentration and expanding housing and economic opportunities, the projects must be in census tracts with poverty rates of less than 20 percent. Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Paula O. Blunt, General Deputy Assistant Secretary for Public and Indian Housing.

Date Granted: September 14, 2005.

Reason Waived: An exception to the deconcentration requirements was granted for Richmond Hill Apartments since the following businesses opened in the census tract offering numerous job opportunities: Target; Burlington Coat Factory; Marriott Courtyard Hotel; and several restaurants and shops. An approved pending residential development includes the 350-unit Park Square West in which 90 percent will be market rate units. These activities are consistent with the goal of deconcentrating poverty and expanding housing and economic opportunities. An exception to the 25 percent cap was granted for the Richmond Hill Apartments and Taylor Street Apartments since only families receiving supportive services through the HACS' Family Self-Sufficiency program will occupy the units.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA. The HACLA requested an extension of a special exception payment standard that exceeds 120 percent of the fair market rent as a reasonable accommodation for two elderly, disabled voucher families.

Nature of Requirement: Section 982.505(d) allows a PHA to approve a higher payment standard within the basic range for a family that includes a person with a disability as a reasonable accommodation in accordance with 24 CFR part 8.

Granted by: Paula O. Blunt, General Deputy Assistant Secretary for Public and Indian Housing.

Date Granted: September 15, 2005.

Reason Waived: Approval of the waiver was granted for an additional lease term of one year to allow two elderly, disabled voucher families to continue to reside in their one-bedroom units, which is considered medically and emotionally necessary by their physicians because of their complicated medical conditions.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA. The HACLA requested an extension of a special exception payment standard that exceeds 120 percent of the fair market rent as a reasonable accommodation for a housing choice voucher holder's disabilities.

Nature of Requirement: Section 982.505(d) allows a PHA to approve a higher payment standard within the basic range for a family that includes a person with a disability as a reasonable accommodation in accordance with 24 CFR part 8.

Granted by: Paula O. Blunt, General Deputy Assistant Secretary for Public and Indian Housing.

Date Granted: September 14, 2005.

Reason Waived: Approval of the waiver was granted for an additional lease term of one year to allow a disabled housing choice voucher holder to continue to reside in his two-bedroom unit, which is considered medically and emotionally necessary by his physician because of his developmental disabilities and severe autism.

Contact: Dr. Alfred C. Jurison, Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(d).

Project/Activity: Arlington County Department of Human Services (ACDHS), Arlington, VA. The ACDHS requested an extension of a special exception payment standard that exceeds 120 percent of the fair market rent as a reasonable accommodation for voucher holder.

Nature of Requirement: Section 982.505(d) allows a PHA to approve a higher payment standard within the basic range for a family that includes a person with a disability as a reasonable accommodation in accordance with 24 CFR part 8.

Granted by: Paula O. Blunt, General Deputy Assistant Secretary for Public and Indian Housing.

Date Granted: September 19, 2005.

Reason Waived: Approval of the waiver was granted for an additional lease term of one year to allow a disabled voucher holder to continue to reside in her two-bedroom townhouse, which is considered medically necessary by her physician because of her severe multiple chemical sensitivities to toxins found in paint, cleaning fluids, and other substances.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Minneapolis Public Housing Agency (MPHA), Minneapolis, MN. The MPHA requested an exception to the deconcentration requirements to permit it to attach PBA to three units at the Barrington and four units at Phillips Redesign. The projects are located in census tracts 1054 and 73.02 with poverty rates of 35.8 percent and 26.9 percent, respectively.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: September 21, 2005.

Reason Waived: An exception to the deconcentration requirements was granted since both projects are located in a HUD-designated Empowerment Zone. The purpose of establishing Empowerment Zones is to open new businesses and create jobs, housing, and new educational and healthcare opportunities for thousands of Americans. These goals are consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Minneapolis Public Housing Agency (MPHA), Minneapolis, MN. The MPHA requested an exception to the deconcentration requirements to permit it to attach PBA to 17 one-bedroom units at St. Anthony Mills Apartments. The project is located in census tract 1047 that has a poverty rate of 51.9 percent.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: September 21, 2005.

Reason Waived: An exception to the deconcentration requirements was granted since at the time of the 2000 census only 128 people lived in the census tract. Since then, many of the existing warehouses have been converted into high-end housing. Some of the new developments include: North Star Lofts containing 37 units with current resale prices starting at $380,000; Stone Arch Lofts containing 46 condominium units with current resale prices starting at $500,000; and Humboldt Lofts containing 36 units with current sales prices ranging from $275,000 to above $1,000,000. There are also 134 high-end units currently under construction. In addition to these expanding housing opportunities, the new $130 million home of the Guthrie Theatre will provide 200 job opportunities. These housing and economic opportunities are consistent with the goal of deconcentrating poverty.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Rock Hill (HACRH), Rock Hill, SC. The HACRH requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: September 30, 2005.

Reason Waived: The waiver was granted because this cost-saving measure would enable the HACRH to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register notice, Revisions to PHA Project-Based Assistance (PBA) Program; Initial Guidance.

Project/Activity: Housing Authority of Baltimore City (HABC), Baltimore, MD. The HABC requested an exception to the deconcentration requirements to permit it to attach PBA to 41 scattered-site units of which 10 were approved. The units were located in census tracts 702.0, 1801.0, 803 and 1602 with poverty rates of 34.9 percent, 51.8 percent, 26.8 percent and 33.2 percent, respectively.

Nature of Requirement: Section II subpart E of the initial guidance requires that in order to meet the Department's goal of deconcentration and expanding housing and economic opportunities, the projects must be in census tracts with poverty rates of less than 20 percent.

Granted by: Paula O. Blunt, General Deputy Assistant Secretary for Public and Indian Housing.

Date Granted: September 30, 2005.

Reason Waived: An exception to the deconcentration requirements was granted for ten units that are located in a HUD-designated Empowerment Zone. The purpose of establishing Empowerment Zones is to open new businesses and create jobs, housing, and new educational and healthcare opportunities for thousands of Americans. These goals are consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Brunswick Housing Authority (BHA), Brunswick, GA. The BHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: September 29, 2005.

Reason Waived: The waiver was granted because this cost-saving measure would enable the BHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 902.40.

Project/Activity: Hamtramck Housing Authority (MI004) Hamtramck, MI,

Nature of Requirement: The objective of the Management Operations Indicator of the Public Housing Assessment System (PHAS) is to measure certain key management operations and responsibilities of a public housing agency (PHA) or the purpose of assessing the PHA's management operations capabilities. The PHA is required to submit its management operations certification within two months after the PHA's fiscal year end. The PHA requested a waiver of the submission due date.

Granted by: Paula O. Blunt, General Deputy Assistant Secretary for Public and Indian Housing.

Date Granted: August 17, 2005.

Reason Waived: The PHA's management operations certification was submitted timely, but was rejected because someone other than the Executive Director (ED), who was removed from office, submitted it. The PHA justified the reason for the removal of the ED, and the problems encountered during the transition. The PHA was granted a waiver of the submission due date to resubmit its management operations certification.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: Housing Authority of the City of Orange (TX037), Orange, TX.

Nature of Requirement: The regulation at 24 CFR 902.30 establishes that the audited financial statements be submitted no later than nine months after the PHA's fiscal year end, in accordance with the Single Audit Act and OMB Circular A-133. The PHA requested a 30-day extension of the due date to submit its audited financial data.

Granted by: Paula O. Blunt, General Deputy Assistant Secretary for Public and Indian Housing.

Date Granted: August 17, 2005.

Reason Waived: The PHA's auditor was able to complete two of the three submission steps on the evening of June 30, 2005, but when the PHA attempted to electronically file the audited submission, it encountered system problems, and could not access the system to electronically file the audited submission. The PHA documented through screen shots the access and system problems encountered. The PHA attempted to submit its audited financial submission on time and the documentation provided gave evidence that the circumstances surrounding the failure to complete the submission were unusual and beyond the PHA's control.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: Housing Authority of New Orleans (LA001), New Orleans, LA.

Nature of Requirement: The regulation at 24 CFR 902.30 establishes that the audited financial statements be submitted no later than nine months after the housing authority's (HA) fiscal year end, in accordance with the Single Audit Act and OMB Circular A-133. The PHA requested a waiver of the audited financial submission due date because of complex financial transactions and other mitigating circumstances including eight complex mixed finance transactions, and change in accounting methods.

Granted by: Paula O. Blunt, General Deputy Assistant Secretary for Public and Indian Housing.

Date Granted: August 30, 2005.

Reason Waived: The circumstances surrounding the submission were unusual and beyond the PHA's control. The PHA staff was unfamiliar and inexperienced with mixed finance transactions and accounting procedures. The PHA was granted thirty days to complete and resubmit the audited financial information.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: Dallas Housing Authority (TX009), Dallas, TX.

Nature of Requirement: The regulation at 24 CFR 902.30 establishes that the Audited financial statements be submitted no later than nine months after the housing authority's (HA) fiscal year end, in accordance with the Single Audit Act and OMB Circular A-133. Due to an unforeseen issue, the PHA had to reissue its 2003 annual financial audit before issuing its 2004 Comprehensive Annual Financial Report

Granted by: Paula O. Blunt, General Deputy Assistant Secretary for Public and Indian Housing.

Date Granted: September 28, 2005.

Reason Waived: An unforeseen issue that was not identified at the time of the engagement contract, pertaining to the accelerated depreciation related to the demolition of an apartment project, caused the current auditors to require re-issuance of the PHA's 2003 annual financial audit from the prior audit firm. Due to this unforeseen issue, the PHA had to reissue its 2003 annual financial audit before issuing its 2004 Comprehensive Annual Financial Report. The PHA received an extension of the due date to October 28, 2005, to complete and submit the audited financial information.

Contact: David R. Ziaya, Program Manager, NASS, Real Estate Assessment Center, Office of Public and Indian Housing, Department of Housing and Urban Development, 550 12th Street, SW., Suite 100, Washington, DC 20410, telephone (202) 475-8574.

• Regulation: 24 CFR 982.505(d)

Project Activity: Schenectady Municipal Housing Authority (SMHA), Schenectady, NY. The SMHA requested a special exception payment standard that exceeds 120 percent of the fair market rent as a reasonable accommodation for voucher holder.

Nature of Requirement: 24 CFR 982.505(d) allows a PHA to approve a higher payment standard within the basic range for a family that includes a person with a disability as a reasonable accommodation in accordance with 24 CFR part 8.

Granted by: Paula O. Blunt, General Deputy Assistant Secretary for Public and Indian Housing.

Date Granted: July 25, 2005.

Reason Waived: Approval of the waiver was granted to allow a disabled voucher holder to rent a three-bedroom unit that is handicapped accessible and in close proximity to her doctor's office, therapy provider, grocery stores, bus lines, and other amenities needed to maintain her health and independence.

Contact: Dr. Alfred C. Jurison, Director, Housing Voucher Management and Operations Division, Office of Public Housing and Voucher Programs, Office of Public and Indian Housing, Department of Housing and Urban Development, 451 Seventh Street, SW., Room 4210, Washington, DC 20410; (202) 708-0477.

• Regulation: 24 CFR Section 982.505(c)(3).

Project Activity: Wyoming County Housing and Redevelopment Authorities (WCHRA), Nicholson, PA. The WCHRA requested a waiver of payment standard (PS) requirements to permit it to implement reduced PSs earlier than required to avoid termination of housing assistance payments (HAP) contracts during calendar year 2005 due to insufficient funding.

Nature Of Requirement: 24 CFR Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: August 4, 2005.

Reason Waived: The waiver was granted because this cost-saving measure would enable the WCHRA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410; (202) 708-0477.

• Regulation: 24 CFR 982.505(d)

Project Activity: Baltimore County Housing (BCH), Baltimore, MD. The BCH requested a special exception payment standard that exceeds 120 percent of the fair market rent as a reasonable accommodation for voucher holder.

Nature of Requirement: 24 CFR 982.505(d) allows a PHA to approve a higher payment standard within the basic range for a family that includes a person with a disability as a reasonable accommodation in accordance with 24 CFR part 8.

Granted by: Paula O. Blunt, General Deputy Assistant Secretary for Public and Indian Housing.

Date Granted: August 1, 2005.

Reason Waived: Approval of the waiver was granted to allow a disabled voucher holder to rent a two-bedroom unit that is handicapped accessible and in close proximity to her parents, who assist in her activities of daily living, and is also located near her medical caregivers, grocery stores, bus lines, and other amenities.

Contact Dr. Alfred C. Jurison, Director, Housing Voucher Management and Operations Division, Office of Public Housing and Voucher Programs, Office of Public and Indian Housing, Department of Housing and Urban Development, 451 Seventh Street, SW., Room 4210, Washington, DC 20410; (202) 708-0477.

[FR Doc. 06-1362 Filed 2-16-06; 8:45 am]

BILLING CODE 4210-67-U